DEPARTMENT OF HOMELAND SECURITY

Federal Emergency Management Agency

44 CFR Part 67

Final Flood Elevation Determinations

AGENCY: Federal Emergency Management Agency (FEMA), Department of Homeland Security, Mitigation Division.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Division, 500 C Street, SW., Washington, DC 20472, (202) 646-3151.

SUPPLEMENTARY INFORMATION: FEMA makes the final determinations listed below for the modified BFEs for each community listed. These modified elevations have been published in newspapers of local circulation and ninety (90) days have elapsed since that publication. The Mitigation Division Director has resolved any appeals resulting from this notification.

This final rule is issued in accordance with Section 110 of the Flood Disaster Protection Act of 1973, 42 U.S.C. 4104, and 44 CFR Part 67.

The Agency has developed criteria for floodplain management in floodprone areas in accordance with 44 CFR Part 60.

Interested lessees and owners of real property are encouraged to review the proof Flood Insurance Study and FIRM available at the address cited below for each community. The BFEs and modified BFEs are made final in the communities listed below. Elevations at selected locations in each community are shown.

National Environmental Policy Act. This rule is categorically excluded from the requirements of 44 CFR Part 10, Environmental Consideration. No environmental impact assessment has been prepared.

Regulatory Flexibility Act. As flood elevation determinations are not within the scope of the Regulatory Flexibility Act, 5 U.S.C. 601-612, a regulatory flexibility analysis is not required.

Regulatory Classification. This final rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | #Depth in feet above ground. *Elevation in feet (NGVD). +Elevation in feet (NAVD). Modified
KENTUCKY (FEMA Docket No. B-7454)
Kentucky | Louisville Metro | Anita Branch | At confluence with Pennsylvania Run | +535
|  |  | Approximately 240 feet upstream of Cedar Creek Road | +614
| Louisville Metro | Blue Springs Ditch | At confluence with Northern Ditch | +460
|  |  | Approximately 650 feet downstream of Fern Valley Road | +462
|  |  | Just upstream of Fern Valley Road | +463
|  |  | Approximately 80 feet downstream of Hanses Drive | +465
|  |  | Approximately 330 feet downstream of Jefferson Boulevard | +467
|  |  | Approximately 1,570 feet upstream of Jefferson Boulevard | +470
| Louisville Metro | Brownsboro Ditch | At confluence with Little Goose Creek | +583
|  |  | Approximately 70 feet upstream of Ten Broeck Way | +583
| Louisville Metro | Brush Run Upper | At confluence with Floydes Fork | +597
|  |  | Approximately 530 feet upstream of Polo Fields Lane | +655
| City of Shively | City Park Ditch | At confluence with Upper Mill Creek | +448
|  |  | Approximately 300 feet upstream of Olenda Way | +448
| Louisville Metro | Drews Fork | At confluence with Lovvorn Creek | +600
|  |  | Approximately 280 feet upstream of Cooper Chapel Road | +629
| Louisville Metro | Durbin Branch | At confluence with Lovvorn Creek | +595
|  |  | Approximately 120 feet upstream of Cooper Chapel Road | +633
| Louisville Metro | Fishpool Creek | At confluence with Southern Ditch | +462
|  |  | Approximately 1,570 feet upstream of Blue Lick Road | +467
|  |  | Approximately 950 feet Downstream of South Park Road | +472
|  |  | Approximately 1,320 feet upstream of Charleswood Road | +571
|  |  | Approximately 20 feet upstream of Cooper Chapel Road | +582
|  |  | Approximately 2,000 feet upstream of Cooper Chapel Road | +594
| Louisville Metro | Floyds Fork | Approximately 29,700 feet downstream of Bardstown Road | +475
|  |  | Approximately 1,600 feet upstream of Broad Run Road | +496
|  |  | Approximately 7,910 feet downstream of confluence with Cane Run | +521
|  |  | Approximately 3,400 feet upstream of confluence with Cane Run | +534
|  |  | Approximately 4,970 feet downstream of Taylorsville Lake Road | +548
|  |  | Approximately 1,930 feet downstream of Taylorsville Lake Road | +552
|  |  | Approximately 1,740 feet downstream of Taylorsville Road | +559
|  |  | Approximately 3,570 feet upstream of Taylorsville Road | +568
|  |  | Approximately 3,100 feet downstream of I-64 East | +581
|  |  | Approximately 330 feet downstream of Shelbyville Road | +596
|  |  | Approximately 7,700 feet upstream of CSX Railroad | +612
|  |  | Approximately 12,300 feet upstream of Aiken Road | +628
| Louisville Metro | Gene Snyder Tributary | At confluence with Pennsylvania Run | +595
|  |  | Approximately 500 feet upstream of I-265 North | +608
| Louisville Metro | Goose Creek | Just upstream of Lakeland Road | +661
|  |  | Approximately 220 feet downstream of Cave Spring Place | +707
| Louisville Metro | Harrods Creek | At confluence with Ohio River | +452
|  |  | Approximately 22,400 feet upstream of Brownsboro Road | +452
| City of Shively | Heatherfield Ditch | At confluence with Upper Mill Creek | +447
|  |  | Just downstream of Heatherfield Drive | +447
| Louisville Metro | Hite Creek | Approximately 2,850 feet downstream of Worthington Lane | +599
|  |  | Approximately 820 feet upstream of Collins Lane | +734
| Louisville Metro | LeFores Branch | At confluence with Goose Creek | +668
|  |  | Approximately 1,140 feet upstream of confluence with Goose Creek | +677
| Louisville Metro | Lilac Run | At confluence with Little Goose Creek | +628
|  |  | Approximately 1,780 feet upstream of Wynbrooke Cirle | +667
| Louisville Metro | Little Goose Creek | Approximately 580 feet downstream of I-71 South | +548
|  |  | Approximately 300 feet upstream of Westport Road | +651
| Louisville Metro | Long Run Creek | At confluence with Floyds Fork | +569
|  |  | Approximately 830 feet upstream of Long Run Road | +653
| Louisville Metro | Lovvorn Creek | At confluence with Pennsylvania Run | +578
|  |  | Approximately 170 feet upstream of Beulah Church Road | +652
| Louisville Metro | Northern Ditch | At confluence with Pond Creek | +455
|  |  | Approximately 1,910 feet downstream of Preston Highway | +459
|  |  | Approximately 1,840 feet upstream of Preston Highway | +463
|  |  | Approximately of 410 feet upstream of Shepherdsville Road | +480
| Louisville Metro | Pennsylvania Run | Approximately 900 feet downstream of Mt. Washington Road | +528
|  |  | Approximately 920 feet upstream of Outer Loop | +648
| Louisville Metro | Pohlmann Branch | At confluence with Pennsylvania Run | +602
|  |  | Approximately 160 feet upstream of Beulah Church Road | +657
| Louisville Metro | Pond Creek | Approximately 6,500 feet downstream of Stites Station Road | +430
|  |  | Approximately 870 feet upstream of Blenvins Gap Road | +433
|  |  | Approximately 1,000 feet downstream of Stonestreet Road | +445
|  |  | Approximately 1,800 feet upstream of New Cut Road | +455
| Louisville Metro | Rolling Hills Branch | At confluence with Little Goose Creek | +590
|  |  | Approximately 180 feet upstream of Goose Creek Road | +608
| Louisville Metro, City of West Buechel, City of Jeffersontown | South Fork Beargrass Creek | At pump station Approximately 50 feet upstream of Baxter Avenue | +433 +449
|  |  | Approximately 170 feet upstream of Ellison Avenue | +456
|  |  | Approximately 6,100 feet upstream of Eastern Parkway | +460
|  |  | Approximately 360 feet upstream of Goldsmith Lane (1st crossing) | +470
|  |  | Approximately 760 feet downstream of Bashford Manor Lane | +472
|  |  | Approximately 240 feet upstream of Bashford Manor Lane | +472
|  |  | Approximately 100 feet downstream of Bardstown Road | +475
|  |  | Approximately 80 feet upstream of Bardstown Road | +478
|  |  | Approximately 40 feet downstream of Hikes Lane | +491
|  |  | Approximately 260 feet upstream of Breckenridge Lane | +511
|  |  | Approximately 3,270 feet upstream of Hunsinger Lane | +533
|  |  | Approximately at Brybed Reservoir | +564
|  |  | Approximately 1,500 feet downstream of Stony Brook Drive | +564
|  |  | Just downstream Taylorville Road | +634
| Louisville Metro | Southern Ditch | At confluence with Pond Creek | +455
|  |  | Approximately 960 feet downstream of Minors Lane | +459
|  |  | Approximately 1,620 feet downstream of Outer Loop (1st crossing) | +472
|  |  | Approximately 490 feet downstream of Gayeway Drive | +506
|  |  | Approximately 310 feet upstream of Gayeway Drive | +517
|  |  | Approximately 30 feet upstream of Shepherdsville Road | +531
|  |  | Approximately 60 feet downstream of Michael Ray Drive | +561
|  |  | Approximately 790 feet upstream of Michael Ray Drive | +576
|  |  | Approximately 1,350 feet upstream of Michael Ray Drive | +586
| Louisville Metro | Springhurst Creek | At confluence with Little Goose Creek | +588
|  |  | Approximately 350 feet upstream of Ten Broeck Way | +591
| Louisville Metro City of Matthews | Weicher Creek | At confluence with Middle Fork Beargrass Creek | +508
|  |  | Approximately 100 feet downstream of I-264 West Ramp | +517
|  |  | Approximately 20 feet upstream of Blossomwood Drive | +522
|  |  | Approximately 600 feet upstream of Woodmont Drive | +537
|  |  | Approximately 190 feet upstream of Dannywood Road | +545
|  |  | Approximately 290 feet upstream of Lincoln Road | +550
|  |  | Approximately 820 feet upstream of Lincoln Road | +555
|  |  | Approximately 3,870 feet upstream of Limehouse Lane | +647
| Louisville Metro | Wet Woods Creek | At confluence with Southern Ditch | +457
|  |  | Just downstream of Preston Highway | +461
| Louisville Metro | Wilson Creek | At confluence with Southern Ditch | +456
|  |  | Approximately 990 feet upstream of I-265 North | +460
|  |  | Approximately 3,290 feet upstream of National Turnpike | +467
|  |  | Approximately 2,260 feet upstream of Farmers Lane | +477
|  |  | Approximately 3,550 feet upstream of Farmers Lane | +480
|  |  | Approximately 4,700 feet downstream of National Turnpike | +524
# Depth in feet above ground.
* National Geodetic Vertical Datum.
+ North American Vertical Datum.
ADDRESSES
Louisville Metro
Maps are available for inspection at Louisville/Jefferson County Metropolitan Sewer District, 700 West Liberty Street, Louisville, Kentucky 40203-1911.
Send comments to Mr. Randy Stambaugh, P.E., CFM, Floodplain Administrator, Louisville/Jefferson County Metropolitan Sewer District, 700 West Liberty Street, Louisville, Kentucky 40203-1911.
City of Jeffersontown
Maps are available for inspection at Jeffersontown City Hall, 10416 Watterson Trail, Jeffersontown, Kentucky 40299.
Send comments to Honorable Clay Foreman, Mayor, Jeffersontown City Hall, 10416 Watterson Trail, Jeffersontown, Kentucky 40299.
City of Shively
Maps are available for inspection at Shively City Hall, 3920 Dixie Highway, Louisville, Kentucky 40216-4120.
Send comments to Honorable Sherry Conner, Mayor, Shively City Hall, 3920 Dixie Highway, Louisville, Kentucky 40216-4120.
City of Matthews
Maps are available for inspection at St. Matthews City Hall, 3940 Grandview Avenue, Louisville, Kentucky 40207.
Send comments to Honorable Arthur Draut, Mayor, St. Matthews City Hall, 3940 Grandview Avenue, Louisville, Kentucky 40207.
City of West Buechel
Maps are available for inspection at West Buechel City Hall, 3705 Bashford Avenue, Louisville, Kentucky 40218.
Send comments to Honorable Sharon Fowler, Mayor, West Buechel City Hall, 3705 Bashford Avenue, Louisville, Kentucky 40218.
POLK COUNTY, OREGON
FEMA Docket No. B-7453)
Oregon | Polk County (Uninc. Areas) | North Fork Ash Creek | Confluence with Middle Fork Ash Creek | +177
|  |  | At Hoffman Road | +180
| City of Independence, City of Monmouth Polk County (Uninc. Areas) | Ash Creek | Approximately 100 feet downstream of Gun Club Road | +167
|  |  | At Confluence of Middle Fork Ash Creek and North Fork Ash Creek | +177
| City of Independence City of Monmouth polk County (Uninc. Areas) | Ash Creek Overflow Channel | At Confluence with Ash Creek | +168
|  |  | At divergence from Ash Creek | +177
# Depth in feet above ground.
* National Geodetic Vertical Datum.
+ North American Vertical Datum.
ADDRESSES
Unincorporated Areas of Polk County
Maps are available for inspection at the Community Development, 850 Main Street, Dallas, Oregon 97338.
Send comments to Chairman, Ron Dodge, 850 Main Street, Dallas, Oregon 97338.
City of Independence
Maps are available for inspection at Community Development, 240 Monmouth Street, Independence, Oregon 97351
Send comments to the Honorable John McArdle, 240 Monmouth Street, Independence, Oregon 97351.
City of Monmouth
Maps are available for inspection at Community Development, 240 Monmouth Street, Independence, Oregon 97351.
Send comments to the Honorable Larry Dalton, 151 West Main Street, Monmouth, Oregon 97361.

Flooding source(s) | Location of referenced elevation | #Depth in feet above ground. *Elevation in feet (NGVD). +Elevation in feet (NAVD). +( ) Pond Elevation in NAVD. Modified | Communities affected
Larimer County, Colorado and Incorporated Areas
(FEMA Docket No. B-7458)
Big Thompson River | Approximately 800 feet upstream of Larimer-Weld County Line | +4,812 | Larimer County (Unincorporated Areas), City of Loveland, Town of Johnstown.
| Approximately 800 feet upstream of County Road 3 | +4,829
| Just upstream of I-25 | +4,852
| Approximately 0.4 miles upstream of County Road 3 | +4,880
| Approximately 150 feet upstream of Boyd Lake Outlet Ditch | +4880
| Approximately 300 feet west of Lincoln Avenue and approximately 1,700 feet west of St. Louis Avenue | #2
| Just downstream of St. Louis Avenue | +4,923
| Just upstream of St. Louis Avenue | +4,924
| Just east of Taft Avenue to 900 feet west of Taft Avenue Garfield Avenue | #1
| South of Dry Creek and north of Rossum Drive | #3
| Approximately 1,400 feet upstream of confluence of Dry Creek | +5,046
| Southwest of U.S. Highway 34 | #2
| Just downstream of confluence with Buckhorn Creek | +5,097
Big Thompson River—South Spill | At confluence with Big Thompson River | +4,938 | Larimer County (Unincorporated Areas) and City of Loveland.
| Just upstream of Taft Avenue | +4,970
Big Thompson River—Gravel Pit Split | At confluence with Big Thompson River | +4,888 | Larimer County (Unincorporated Areas).
| Approximately 1,900 feet upstream of confluence with Big Thompson River | +4,899
Big Thompson River Overflow | Just upstream of confluence with Big Thompson River | +5,047 | Larimer County (Uninc. Areas), City of Loveland.
| Approximately 0.4 miles upstream of confluence with Big Thompson River | +5,078
Boxelder Creek | Approximately 200 feet upstream above confluence with Cache La Poudre River | +4,868 | City of Fort Collins, Larimer County (Uninc. Areas).
| Approximately 1,000 feet east of Interstate Highway 25 | #2
| Just upstream of Vine Drive | +4,972
| Just north of Vine Drive | #2
| Just upstream of County Road 52 | +5,024
| Approximately 500 feet north of County Road 52 | #2
| Approximately 1,000 feet north of County Road 52 | #1
| Just downstream of County Road 54 | +5,054
Boxelder Creek Overflow—Downstream Reach | Approximately 1,600 feet above confluence with Boxelder Creek | +4,933 | City of Fort Collins, Larimer County (Unincorporated Areas).
| Limit of Detailed Study (Approximately 2.1 miles above confluence with Boxelder Creek) | +4,975
Boxelder Creek Overflow—Upstream Reach | Above Larimer and Weld Canal | +4,982 | City of Fort Collins, Larimer County (Unincorporated Areas).
| Limit of Detailed Study (Approximately 2.3 miles above Larimer and Weld Canal) | +5,038
Boxelder Creek I-25 Split | Approximately 500 feet upstream of Larimer County Road 5 | +4,875 | City of Fort Collins, Larimer County (Unincorporated Areas).
| Limits of Detailed Study (Approx. 3.1 miles upstream of Larimer County Road 5) | +4,921
Boxelder Creek I-25 Split Overflow | Approximately 600 feet upstream of confluence with Boxelder Creek | +4,890 | City of Fort Collins, Larimer County (Unincorporated Areas).
| Approximately 1,500 feet upstream of confluence with Boxelder Creek | +4,894
Cache La Poudre River | Approximately 1,500 feet downstream from Shields Street | +4982 | City of Fort Collins, Larimer County (Unincorporated Areas).
| Just west of Shields Street to approximately 500 feet west of Shields Street | +(5,000)
| Approximately 500 feet west of Shields Street | #2
| Approximately 2,000 feet downstream of Overland Trail Road | +5,048
| Approximately 1,000 feet upstream of Overland Trail Road | +5,063
| Appoximately 1,800 feet upstream of County Road 52E | +5,119
Cache La Poudre River Split RPath | At Gravel Pit Access Road | +4,884 | City of Fort Collins, Larimer County (Unincorporated Areas).
| Approximately 0.7 miles above Gravel Pit Access Road | +4,900
Cache La Poudre River Split LPath | Approximately 0.5 miles above Gravel Pit Access Road | +4,896 | City of Fort Collins, Larimer County (Unincorporated Areas).
| Approximately 0.6 miles above Gravel Pit Access Road | +4,898
Cooper Slough | Approximately 800 feet upstream of State Highway 14 | +4,922 | City of Fort Collins, Larimer County (Unincorporated Areas).
| Approximately 600 feet south of C and S Railroad | #2
| Approximately 1,200 feet north of Vine Drive to approximately 1,800 feet north of Vine Drive | +(4964)
| Approximately 0.6 miles upstream of Vine Drive | +4,972
Cooper Slough Overflow | Just south of confluence with Lake Canal and just north of Cache La Poudre Inlet Ditch | #3 | City of Fort Collins, Larimer County (Unincorporated Areas).
| At confluence with Lake Canal | +4,917
| Approximately 0.9 miles upstream of confluence with Lake Canal | +4,936
Dry Creek | Just upstream of confluence with Big Thompson River | +5,043 | City of Loveland.
| Approximately 0.4 miles upstream of confluence with Big Thompson River | +5,065
Glade Road Split | Just upstream of confluence with Big Thompson River | +5,047 | Larimer County (Unincorporated Areas), City of Loveland.
| Approximately 0.9 miles upstream of confluence with Big Thompson River | +5,078
Sherry Drive Overflow | Approximately 1,000 feet upstream of Cache La Poudre Reservoir Inlet Ditch | +4,918 | City of Fort Collins.
| Approximately 1,800 feet upstream of Cache La Poudre Reservoir Inlet Ditch | +4,920
Shield Street Divided Flow Path—Hill Pond Road | Approximately 400 feet downstream of Shire Court | +5,010 | City of Fort Collins, Larimer County (Unincorporated Areas).
| South of Gilgalad Way and north of Hill Pond Road | #1
| Just west of convergence of Hill Pond Road and Windtrail Swale | #1
| South of Hill Pond Road and north of Shire Court | #1
| Approximately 100 feet downstream of Shields Street | +5,021
Shield Street Divided Flow Path—Shire Court | Just downstream of Chetwood Court | +5,012 | City of Fort Collins, Larimer County (Unincorporated Areas).
| North of Shire court and east of Shields Street | #2
| Just downstream of Shields Street | +5,024
Shield Street Divided Flow Path—Windswale Trail | Approximately 3.8 miles upstream above confluence with Cache La Poudre River | +5,003 | City of Fort Collins, Larimer County (Unincorporated Areas).
| Approximately 4.2 miles upstream above confluence with Cache La Poudre River | +5,017
Spring Creek | Approximately 700 feet upstream above confluence with Cache La Poudre River | +4,905 | City of Fort Collins, Larimer County (Unincorporated Areas).
| Around intersection of Prospect Road and Sharp Point Drive | #2
| North of Prospect Road and East of Timberline Road | +(4,905)
| Just upstream of Lemay Avenue | +4,947
| Around intersection of Stuart Street and Stover Street | #3
| East of C and S Railroad and south of Prospect Court | #2
| Just upstream of Shields Street | +5,018
| West of Shields Street | #2
| Approximately 2,000 feet downstream from Shields Street | #2
| Just upstream of Taft Hill Road | +5,087
| Approximately 2.1 miles upstream of Taft Hill Road | +5,173
| Approximately 2.1 miles upstream of Taft Hill Road | +5,173
+ North American Vertical Datum.
* National Geodetic Vertical Datum.
# Depth in feet above ground.
+ ( ) Pond Elevation in North American Vertical Datum.
ADDRESSES
Unincorporated Areas Larimer County
Maps are available for inspection at the Larimer County Courthouse, 200 West Oak Street, Fort Collins, Colorado 80521.
Send comments to the Honorable Kathay Rennels, Chair, Larimer County Board of Commissioners, P.O. Box 1190, Fort Collins, Colorado 80522-1190.
City of Loveland
Maps are available for inspection at City Hall, 500 East Third Street, Loveland, Colorado 80537.
Send comments to the Honorable Larry Walsh, Mayor, City of Loveland, 500 East Third Street, Loveland, Colorado 80537.
City of Fort Collins
Maps are available for inspection at the Fort Collins Stormwater Utilities Department, 700 Wood Street, Fort Collins, Colorado 80521.
Send comments to the Honorable Doug Hutchinson, Mayor, City of Fort Collins, 300 LaPorte Avenue, P.O. Box 580, Colorado 80522-0580.

Flooding source(s) | Location of referenced elevation | #Depth in feet above ground. *Elevation in feet (NGVD). +Elevation in feet (NAVD) | Communities affected
Santa Rosa County, Florida and Incorporated Areas
(FEMA Docket No. D-7660)
Pace Mill Creek | Approximately 1,300 feet downstream of U.S. Route 90 | +12 | Santa Rosa County (Unincorporated Areas).
| At downstream side of Chumuckla Highway | +127
Pond Creek | Approximately 500 feet upstream of CSX Railroad | +10 | Santa Rosa County (Unincorporated Areas), City of Milton.
| At upstream side of William Norris Road | +68
+ North American Vertical Datum.
* National Geodetic Vertical Datum.
# Depth in feet above ground.
ADDRESSES
Santa Rosa County (Unincorporated Areas)
Maps available for inspection at the Santa Rosa County Public Services Department, 6051 Old Bagdad Highway, Milton, Florida 32583.
City of Milton
Maps available for inspection at the City of Milton Planning and Development Department, 6738 Dixon Street, Milton, Florida.
Shoshone County, Idaho and Incorporated Areas
(FEMA Docket No. B-7660)
Coeur d'Alene River | At western Shoshone County boundary approximately 800 feet South of Interstate Highway 90 | +2149 | Shoshone County (Unincorporated Areas).
| At western Shoshone County boundary on the landward side of the levee at community of Cataldo | +2155
| Approximately 15,000 feet upstream from the western Shoshone County boundary | +2164
South Fork Coeur d'Alene River | Approximately 1500 feet downstream of Theatre Road | +2225 | Shoshone County (Unincorporated Areas), City of Kellogg, City of Smelterville.
| Just downstream of Elizabeth Park Road Bridge | +2343
South Fork Coeur d'Alene River—North Overbank Reach through Kellogg | At west Brown Avenue west of Utah Street | +2295 | Shoshone County (Unincorporated Areas), City of Kellogg.
| Just north of Interstate Highway 90 after divergence from South Fork Coeur d'Alene River on Cameron Avenue East | +2310
South Fork Coeur d'Alene River—South Overbank North Swale Reach | At the City of Kellogg western corporate limit | +2243 | Shoshone County (Unincorporated Areas), City of Kellogg.
| At divergence from South Fork Coeur d'Alene River. Just upstream of Interstate Highway 90 Bridge | +2284
South Fork Coeur d'Alene River—South Overbank Smelterville Reach | Just South of Interstate Highway 90 bridge approximately 1000 feet upstream of Pine Creek confluence | +2198 | Shoshone County (Unincorporated Areas), City of Kellogg, City of Smelterville.
| At confluence of Government Gulch | +2245
South Fork Coeur d'Alene River—South Overbank South Kellogg Reach | Approximately 1000 feet downstream of Hill Street | +2284 | Shoshone County (Unincorporated Areas), City of Kellogg.
| Approximately 150 feet downstream of divergence from South Fork Coeur d'Alene River, at Division Street | +2310
South Fork Coeur d'Alene River—South Overbank South Swale Reach | Approximately 1500 feet upstream from western corporated limit of the City of Kellogg. | +2251 | Shoshone County (Unincorporated Areas), City of Kellogg.
| At the confluence of South Overbank Southwest Kellogg Reach | +2282
South Fork Coeur d'Alene River—South Overbank Southwest Kellogg Reach | At confluence with South Overbank South Swale Reach approximately 200 feet downstream of Bunker Avenue | +2284 | Shoshone County (Unincorporated Areas), City of Kellogg.
| At divergence from South Fork Coeur d'Alene River | +2289
* National Geodetic Vertical Datum 1929.
+ North American Vertical Datum 1988.
# Depth in feet above ground.
ADDRESSES
Unincorporated areas of Shoshone County
Maps are available for inspection at the Shoshone County Courthouse, 700 Bank Street, Suite 35, Wallace Idaho 83873.
Send comments to Chairman Jim Vergobbi, Shoshone County, 700 Bank Street, Suite 120, Wallace Idaho 83873.
City of Kellogg
Maps are available for inspection at the City Hall, 1007 McKinley Street, Kellogg Idaho 83837.
Send comments to Mayor Mac Pooler, City of Kellogg, 1007 McKinley Street, Kellogg Idaho 83837.
City of Smelterville
Maps are available for inspection at the City Hall, 501 Main Street, Smelterville Idaho 83868.
Send comments to Mayor Tom Benson, City of Smelterville, P.O. Box 200, Smelterville Idaho 83868.
Plymouth County, Massachusetts and Incorporated Areas
(FEMA Docket No. D-7662)
Plymouth Harbor/Plymouth Bay | At Clarks Island | +10 | Town of Plymouth.
| Approximately 500 feet north of the intersection of State Route 3A and Clifford Road | +29
* National Geodetic Vertical Datum 1929.
+ North American Vertical Datum 1988.
# Depth in feet above ground.
ADDRESSES
Town of Plymouth
Maps available for inspection at the Plymouth Town Hall, 11 Lincoln Street, Plymouth, Massachusetts.
Washington County, Missouri and Incorporated Areas
(FEMA Docket No. B-7456)
Mine Breton Creek | Approximately 2,350 feet above confluence with Bates Creek | *860 | City of Potosi.
| At Highway P, approximately 9,700 feet above confluence with Bates Creek | *922
* National Geodetic Vertical Datum 1929.
+ North American Vertical Datum 1988.
# Depth in feet above ground.
ADDRESSES
City of Potosi
Maps are available for inspection at the Community Map Repository, 121 E. High Street, Potosi, MO.
Send comments to The Honorable Wayne Maulgen, Mayor of the City of Potosi, 121 E. High Street, Potosi, MO 63664.

Flooding source(s) | Location of referenced elevation | #Depth in feet above ground. *Elevation in feet (NGVD). +Elevation in feet (NAVD) | Communities affected
Bladen County, North Carolina and Incorporated Areas
(FEMA Docket Nos. D-7584, D-7560, and D-7660)
Bakers Creek | At the confluence with Cape Fear River | +54 | Bladen County (Unincorporated Areas).
| Approximately 2.1 miles upstream of Owen Hill Road | +79
Barefoot Swamp | At the confluence with Crawley Swamp | +104 | Bladen County (Unincorporated Areas).
| Approximately 0.7 mile upstream of Highway 41 | +116
Big Foot Marsh | At the confluence with Brown Marsh Swamp | +71 | Town of Clarkton, Bladen County (Unincorporated Areas).
| Approximately 100 feet downstream of Business 701 | +78
Big Swamp | Approximately 1.8 miles upstream of the confluence of Bryant Swamp | +99 | Bladen County (Unincorporated Areas).
| At the confluence with Big Marsh Swamp | +122
Black River | At the Bladen/Pender County boundary | +16 | Bladen County (Unincorporated Areas).
| At the confluence with South River | +26
Black Swamp | At the Bladen-Robeson County boundary | +108 | Bladen County (Unincorporated Areas).
| Approximately 1.9 miles upstream of Highway 131 | +123
Brown Marsh Swamp | Approximately 1,500 feet upstream of Red Hill Road | +70 | Bladen County (Unincorporated Areas).
| Approximately 0.9 mile upstream of Highway 701 | +86
Browns Creek | At the confluence with Cape Fear River | +48 | Bladen County (Unincorporated Areas), Town of Elizabethtown.
| Approximately 2.2 miles upstream of Peanut Plant Road | +101
Browns Creek Tributary | At the confluence with Browns Creek | +96 | Bladen County (Unincorporated Areas), Town of Elizabethtown.
| Approximately 0.9 mile upstream of Cromartie Road | +120
Bryant Swamp | At the Bladen-Robeson County boundary | +96 | Town of Bladenboro, Bladen County (Unincorporated Areas).
| Approximately 0.3 mile upstream of State Route 211 Bypass | +107
Cape Fear River | At the Bladen/Pender County boundary | +18 | Bladen County (Unincorporated Areas), Town of Elizabethtown.
| Approximately 190 feet downstream of the Bladen/Cumberland County boundary | +70
Carvers Creek | At the confluence with Cape Fear River | +31 | Bladen County (Unincorporated Areas).
| Approximately 1.6 miles upstream of Doctor Robinson Road | +61
Colly Creek | At the Bladen/Pender County boundary | +18 | Bladen County (Unincorporated Areas), Town of White Lake.
| Approximately 1,600 feet upstream of Susie Sand Hill Road | +85
Crawley Swamp | At the Bladen-Robeson County boundary | +100 | Bladen County (Unincorporated Areas).
| Approximately 1.0 mile downstream from State Route 410 | +108
Cypress Creek | At the confluence with South River | +62 | Bladen County (Unincorporated Areas).
| Approximately 0.5 mile upstream of NC 210 | +76
Donoho Creek | At the confluence with Cape Fear River | +35 | Bladen County (Unincorporated Areas).
| Approximately 800 feet upstream of State Route 87 | +69
Doubles Branch | Approximately 200 feet downstream of Burney Ford Road | +81 | Bladen County (Unincorporated Areas).
| Approximately 1.2 miles upstream of Burney Ford Road | +89
Elkton Marsh | At the confluence with Brown Marsh Swamp | +75 | Bladen County (Unincorporated Areas).
| Approximately 150 feet downstream of Burney Ford Road | +81
Ellis Creek | At the confluence with Cape Fear River | +54 | Bladen County (Unincorporated Areas).
| Approximately 3.0 miles upstream of Dowd Dairy Road | +75
Galberry Swamp | At the confluence with Big Marsh Swamp | +122 | Bladen County (Unincorporated Areas).
| At the Bladen-Cumberland County boundary | +135
Georgia Branch | At the confluence with Cape Fear River | +68 | Bladen County (Unincorporated Areas).
| Approximately 1.6 miles upstream of Glengerry Hill Road | +128
Goodman Swamp | At the Bladen-Robeson County boundary | +109 | Bladen County (Unincorporated Areas).
| Approximately 1,200 feet downstream from Tar-heel Ferry Road | +113
Hammond Creek | At the confluence with Cape Fear River | +43 | Bladen County (Unincorporated Areas).
| Approximately 400 feet upstream of Airport Road | +43
Harrisons Creek | At the confluence with Cape Fear River | +59 | Bladen County (Unincorporated Areas).
| Approximately 1.2 miles upstream of Camp Bowers Trial Dam | +71
Horsepen Branch | Approximately 1,500 feet downstream from the confluence of Spring Branch | +89 | Bladen County (Unincorporated Areas).
| Approximately 0.5 mile upstream of State Route 410 | +100
Kitchens Branch | At the confluence with Carvers Creek | +42 | Bladen County (Unincorporated Areas).
| Approximately 300 feet upstream of Cord Road | +69
Lateral 7 Creek | At the confluence with Bryant Swamp | +105 | Town of Bladenboro, Bladen County (Unincorporated Areas).
| Approximately 1,700 feet upstream of West Poplar Street | +114
Lumber River | At the Bladen-Robeson-Columbus County boundary | +89 | Bladen County (Unincorporated Areas).
| Approximately 1.8 miles upstream of the confluence of Bryant Swamp and Big Swamp | +99
Middle Swamp | At the confluence with Elkton Marsh | +78 | Bladen County (Unincorporated Areas).
| Approximately 1.0 mile upstream of Porterville School Road | +96
Mines Creek | At the confluence with Georgia Branch | +68 | Bladen County (Unincorporated Areas).
| Approximately 0.8 mile upstream of Dam | +120
Plummers Run | At the confluence with Cape Fear River | +30 | Bladen County (Unincorporated Areas).
| Approximately 240 feet upstream of Brighten Road | +64
Plummers Run Tributary | At the confluence with Plummers Run | +43 | Bladen County (Unincorporated Areas).
| Approximately 0.5 mile upstream of the confluence with Plummers Run | +52
Pub Mill Creek | At the confluence with Turnbull Creek | +48 | Bladen County (Unincorporated Areas).
| Approximately 0.6 mile upstream of Unnamed Road | +56
Rattlesnake Creek | At the confluence of Spring Branch | +89 | Bladen County (Unincorporated Areas).
| At the Bladen-Columbus County boundary | +96
Reedy Meadow Swamp | At the confluence with Black Swamp | +118 | Bladen County (Unincorporated Areas)
| Approximately 1.1 miles upstream of State Route 87 | +140
Saespan Branch | Approximately 600 feet downstream of the Bladen/Columbus County boundary | +58 | Bladen County (Unincorporated Areas)
| At the Bladen/Columbus County boundary | +59
Slender Branch | At the confluence with Horsepen Branch | +93 | Bladen County (Unincorporated Areas).
| Approximately 1.0 mile upstream of the confluence with Horsepen Branch | +100
South River | At the confluence with Black River | +26 | Bladen County (Unincorporated Areas).
| At the Bladen/Cumberland County boundary | +71
Spring Branch | At the confluence with Horsepen Branch | +89 | Bladen County (Unincorporated Areas).
| Approximately 4,700 feet upstream of State Route 242 | +104
Steep Run | At the confluence with Cape Fear River | +28 | Bladen County (Unincorporated Areas).
| Approximately 1.1 miles upstream of NC 87 | +54
Turnbull Creek | At the confluence with Cape Fear River | +48 | Bladen County (Unincorporated Areas).
| Approximately 2,100 feet upstream of NC 242 | +84
Wateree Creek | At the confluence of Bryant Swamp | +101 | Town of Bladenboro, Bladen County (Unincorporated Areas).
| Approximately 200 feet upstream of State Route 211 Bypass | +115 | Whites Creek | At the confluence with Hammond Creek | +43 | Bladen County (Unincorporated Areas)
| Approximately 470 feet upstream of Airport Road | +43
* National Geodetic Vertical Datum 1929.
+ North American Vertical Datum 1988.
# Depth in feet above ground.
ADDRESSES
Unincorporated Areas of Bladen County
Maps are available for inspection at Bladen County Courthouse, 106 East Broad Street, Room 107, Elizabethtown, NC.
Town of Bladenboro
Maps are available for inspection at the Bladenboro Town Hall, 305 South Main Street, Bladenboro, NC.
Town of Clarkton
Maps available for inspection at the Clarkton Town Hall, 81 North Elm Street, Clarkton, NC.
Town of Elizabethtown
Maps are available for inspection at Elizabethtown Town Hall, 805 West Broad Street, Elizabethtown, NC.
Town of White Lake
Maps are available for inspection at White Lake Town Hall, 1879 White Lake Drive, White Lake, NC.
Cumberland County, North Carolina and Incorporated Areas
(FEMA Docket Nos. D-7636 and D-7660)
Beaver Creek | At the confluence with Little Rockfish Creek | +121 | Cumberland County (Unincorporated Areas), City of Fayetteville, Town of Hope Mills.
| Approximately 0.9 mile upstream of All-American Expressway | +199
Beaver Creek Tributary A | At the confluence with Beaver Creek | +135 | Cumberland County (Unincorporated Areas).
| Approximately 1,700 feet upstream of the confluence with Beaver Creek | +135
Beaver Dam Creek | At the confluence with South River | +74 | Cumberland County (Unincorporated Areas).
| Approximately 0.3 mile upstream of Spencer Road | +106
Big Branch | At the confluence with Beaver Creek | +191 | Cumberland County (Unincorporated Areas), City of Fayetteville.
| Approximately 1.4 miles upstream of the confluence with Beaver Creek | +219
Big Creek | At the confluence with South River | +102 | Cumberland County (Unincorporated Areas).
| Approximately 5.1 miles upstream of Maxwell Road+145
Black River | At the confluence with South River | +124 | Cumberland County (Unincorporated Areas).
| At the Cumberland/Harnett County boundary Creek | +140
Bones Creek | At the confluence with Little Rockfish Creek | +146 | Cumberland County (Unincorporated Areas).
| Approximately 2.7 miles upstream of Morganton Road | +225
Browns Swamp | At the confluence with South River | +111 | Cumberland County (Unincorporated Areas).
| Approximately 650 feet upstream of South River School Road | +128
Tributary 1 | At the confluence with Browns Swamp | +111 | Cumberland County (Unincorporated Areas).
| Approximately 650 feet upstream of Kennel Road | +124
Buck Creek | At the confluence with Big Creek | +108 | Cumberland County (Unincorporated Areas).
| Approximately 0.9 mile upstream of the confluence with Big Creek | +113
Buckhead Creek | At the confluence with Little Rockfish Creek | +112 | Cumberland County (Unincorporated Areas), City of Fayetteville.
| Approximately 0.8 mile upstream of Raeford Road | +198
Cape Fear River Tributary 2 | At the confluence with Cape Fear River | +96 | Cumberland County (Unincorporated Areas), Town of Wade.
| Approximately 0.4 mile upstream of Interstate 95 | +131
Cold Camp Creek | At the confluence with Galberry Swamp | +144 | Cumberland County (Unincorporated Areas).
| Approximately 500 feet downstream of Interstate 95 | +165
Tributary 1 | At the confluence with Cold Camp Creek | +145 | Cumberland County (Unincorporated Areas).
| Approximately 1,100 feet upstream of Canady Pond Road | +157
Tributary 2 | At the confluence with Cold Camp Creek | +153 | Cumberland County (Unincorporated Areas).
| Approximately 0.8 mile upstream of John McMillan Road | +166
Cypress Creek | At the confluence with Little River | +165 | Cumberland County (Unincorporated Areas).
| Approximately 1.7 miles upstream of West Manchester Road | +204
Galberry Swamp | At the Cumberland/Bladen County boundary | +134 | Cumberland County (Unincorporated Areas).
| At the confluence with Cold Camp Creek and Buckhorn Swamp | +144
Gum Swamp | At the confluence with South River | +94 | Cumberland County (Unincorporated Areas).
| Approximately 0.9 mile upstream of Hollow Bridge Road | +103
Hector Creek | At the confluence with Little River | +178 | Cumberland County (Unincorporated Areas).
| At the Cumberland/Harnett County boundary | +194
Jumping Run Creek | Approximately 1,250 feet upstream of NC 210 (Lillington Highway) | +136 | Cumberland County (Unincorporated Areas).
| At the Cumberland/Harnett County boundary | +161
Kirks Mill Creek | At the confluence with Willis Creek | +73 | Cumberland County (Unincorporated Areas).
| Approximately 500 feet upstream of Point East Drive | +84
Little River Tributary 1 | At the confluence with Little River | +112 | Cumberland County (Unincorporated Areas).
| Approximately 1.3 miles upstream of the confluence with Lower Little River | 138
Tributary 2 | At the confluence with Little River | +144 | Cumberland County (Unincorporated Areas), Town of Spring Lake.
| Approximately 0.7 mile upstream of McCormick Road | +284
Tributary 3 | At the confluence with Little River Tributary 2 | +154 | Cumberland County (Unincorporated Areas).
| Approximately 300 feet upstream of Chapel Hill Road | +209
Little Rockfish Creek | At the confluence with Rockfish Creek | +79 | Cumberland County (Unincorporated Areas), Town of Hope Mills.
| Approximately 200 feet downstream of Raeford Road | +172
Long Branch | At the confluence with Willis Creek | +95 | Cumberland County (Unincorporated Areas).
| Approximately 1.2 miles upstream of the confluence with Willis Creek | +116
(Lower) Little River | Approximately 1.1 miles upstream of Mill Road | +103 | Cumberland County (Unincorporated Areas), Town of Spring Lake.
| At the Cumberland/Hoke County boundary | +179
Mingo Swamp | At the confluence with South River | +127 | Cumberland County (Unincorporated Areas).
| At the Cumberland/Sampson/Harnett County boundary | +134
Muddy Creek | At the confluence with Little River | +150 | Cumberland County (Unincorporated Areas), Town of Spring Lake.
| At the Cumberland/Harnett County boundary | +175
Peters Creek | At the Cumberland/Bladen County boundary | +71 | Cumberland County (Unincorporated Areas).
| Approximately 1,400 feet upstream of C.S. Faircloth Road | +94
Reese Creek | Approximately 1,100 feet upstream of the confluence with Locks Creek | +84 | Cumberland County (Unincorporated Areas).
| Approximately 320 feet upstream of Murphy Road | +137
Rockfish Creek | Approximately 10 feet downstream of Calico Street | +81 | Cumberland County (Unincorporated Areas), Town of Hope Mills.
| At the Cumberland/Hoke County boundary | +122
Sandy Creek | At the confluence with South River | +97 | Cumberland County (Unincorporated Areas), Town of Stedman.
| Approximately 375 feet upstream of Horne Farm Road | +120
South River | At the Cumberland/Bladen/Sampson County boundary | +71 | Cumberland County (Unincorporated Areas), Town of Falcon.
| Approximately 0.7 mile upstream of the confluence of Black River | +127
Tributary 1 | At the confluence with South River | +117 | Cumberland County (Unincorporated Areas).
| Approximately 1.1 miles upstream of Smithfield Road | +175
Tributary 2 | At the confluence with South River Tributary 1 | +122 | Cumberland County (Unincorporated Areas).
| Approximately 0.4 mile upstream of Sambo Jackson Road | +157
Tributary 3 | At the confluence with South River | +123 | Cumberland County (Unincorporated Areas), Town of Falcon.
| Approximately 0.7 mile upstream of the confluence with South River | +139
Tributary 4 | Approximately 600 feet upstream of the confluence with South River | +127 | Cumberland County (Unincorporated Areas).
| Approximately 0.5 mile upstream of Rhodes Pond Road | +138
Stewarts Creek | At the confluence with Rockfish Creek | +122 | Cumberland County (Unincorporated Areas).
| At the Cumberland/Hoke County boundary | +199
Stewarts Creek (North) | Approximately 0.8 mile upstream of Morganton Road | +204 | Cumberland County (Unincorporated Areas), City of Fayetteville.
| Approximately 1.4 miles upstream of Morgantown Road | +229
Swans Creek | At the confluence with Willis Creek | +95 | Cumberland County (Unincorporated Areas).
| Approximately 470 feet upstream of Yarborough Road | +109
Tank Creek | At the confluence with Little River | +147 | Cumberland County (Unincorporated Areas), Town of Spring Lake.
| Approximately 50 feet upstream of Railroad | +175
Willis Creek | Approximately 500 feet downstream of Highway 87 | +69 | Cumberland County (Unincorporated Areas).
| At the confluence of Swans Creek and Long Branch | +95
* National Geodetic Vertical Datum 1929.
+ North American Vertical Datum 1988.
# Depth in feet above ground.
ADDRESSES
City of Fayetteville
Maps are available for inspection at The City of Fayetteville Zoning Department, 433 Hay Street, Fayetteville, North Carolina.
Town of Falcon
Maps are available for inspection at the Falcon Town Hall, 7156 South West Street, Falcon, North Carolina.
Town of Hope Mills
Maps are available for inspection at the Hope Mills Town Hall, 5770 Rockfish Road, Hope Mills, North Carolina.
Town of Spring Lake
Maps are available for inspection at the Spring Lake Town Hall, 300 Ruth Street, Spring Lake, North Carolina.
Town of Stedman
Maps are available for inspection at the Stedman Town Hall, 5110 Front Street, Stedman, North Carolina.
Town of Wade
Maps are available for inspection at the Wade Town Hall, 7128 Main Street, Wade, North Carolina.
Unincorporated Areas of Cumberland County
Maps are available for inspection at the Cumberland County Mapping Department, 117 Dick Street, Fayetteville, North Carolina.
Hoke County, North Caronlina (Unincorporated Areas)
(FEMA Docket Nos. D-7540 and D-7642)
Beaver Creek | At the confluence with Black Branch | +164 | Hoke County (Unincorporated Areas).
| Approximately 100 feet downstream of US 401 | +239
Beaver Creek Tributary | At the confluence with Beaver Creek | +182 | Hoke County (Unincorporated Areas).
| Approximately 0.3 mile upstream of Doc Brown Road | +239
Tributary to Beaver Creek Tributary | At the confluence with Beaver Creek Tributary | +235 | Hoke County (Unincorporated Areas).
| Approximately 0.3 mile upstream of the confluence with Beaver Creek Tributary | +246
Big Branch | Approximately 375 feet upstream of the confluence with Rockfish Creek | +129 | Hoke County (Unincorporated Areas).
| At the Hoke/Robeson County boundary | +144
Big Marsh Swamp | At the county boundary | +188 | Hoke County (Unincorporated Areas).
| Approximately 100 feet downstream of Conoly Road | +230
Big Marsh Swamp Tributary | At the confluence with Big Marsh Swamp | +198 | Hoke County (Unincorporated Areas).
| Approximately 1.0 mile upstream of Old Wire Road | +226
Big Middle Swamp | At the confluence with Raft Swamp | +205 | Hoke County (Unincorporated Areas).
| Approximately 1,750 feet downstream of L McLaughlin Road | +276
Big Middle Swamp Tributary | At the confluence with Big Middle Swamp | +244 | Hoke County (Unincorporated Areas).
| Approximately 680 feet downstream of Laurinburg Road | +254
Black Branch | Approximately 1,700 feet upstream of the confluence with Puppy Creek | +147 | Hoke County (Unincorporated Areas).
| Approximately 0.6 mile upstream of Saddlebred Lane | +192 |
Buffalo Creek | At the confluence with the Lumber River | +235 | Hoke County (Unincorporated Areas).
| Approximately 1.7 miles upstream of the confluence of Buffalo Creek Tributary 2 | +383 |
| At the confluence with Buffalo Creek | +274 | Hoke County (Unincorporated Areas).
Tributary 1 | Approximately 0.6 mile upstream of the confluence with Buffalo Creek | +289 |
| At the confluence with Buffalo Creek | +289 | Hoke County (Unincorporated Areas).
Tributary 2 | Approximately 1.3 miles upstream of the confluence with Buffalo Creek | +360 |
Deep Creek | At the confluence with Little River | +189 | Hoke County (Unincorporated Areas).
| Approximately 2.9 miles upstream of the confluence of Mill Creek (into Deep Creek) | +266 |
Flat Creek | At the confluence with Little River | +195 | Hoke County (Unincorporated Areas).
| Approximately 1.3 miles upstream of the confluence of Flat Creek Tributary | +266 |
Flat Creek Tributary | At the confluence with Flat Creek | +239 | Hoke County (Unincorporated Areas).
| Approximately 0.8 mile upstream of the confluence with Flat Creek | +268 |
Gully Branch | Approximately 400 feet upstream of the confluence with Rockfish Creek | +128 | Hoke County (Unincorporated Areas).
| Approximately 0.4 mile upstream of Overlake Drive | +197 |
Gum Swamp | At the county boundary | +219 | Hoke County (Unincorporated Areas).
| Approximately 120 feet upstream of Spring Hill Road | +230 |
Horse Creek | At the confluence with Little River | +204 | Hoke County (Unincorporated Areas).
| Approximately 1.3 miles upstream of the confluence with Little River | +231 |
James Creek | At the confluence with Little River | +210 | Hoke County (Unincorporated Areas).
| At the Hoke/Moore County boundary | +300 |
James Creek Tributary | At the confluence with James Creek | +211 | Hoke County (Unincorporated Areas).
| Approximately 0.9 mile upstream of the confluence with James Creek | +241 |
Jordan Swamp | At the county boundary | +218 | Hoke County (Unincorporated Areas).
| Approximately 0.6 mile upstream of Old Maxton Road | +234 |
Jumping Run creek | At the confluence with Little River | +182 | Hoke County (Unincorporated Areas).
| Approximately 2.1 miles upstream of the confluence with Little River | +227 |
Little Creek | At the confluence with the Lumber River | +246 | Hoke County (Unincorporated Areas).
| Approximately 1.3 miles upstream of Pendergrass Road | +290 |
Little Marsh Swamp | At the county boundary | +191 | Hoke County (Unincorporated Areas).
| Approximately 30 feet downstream of Golf Course Road | +222 |
Little Middle Swamp | At the confluence with Raft Swamp | +205 | Hoke County (Unincorporated Areas).
| Approximately 1,300 feet downstream of Old Maxton Road | +230 |
Little Raft Swamp | At the county boundary | +187 | Hoke County (Unincorporated Areas).
| Approximately 0.6 mile upstream of Laurinburg Road | +258 |
Little Raft Swamp Tributary | At the confluence with Little Raft Swamp | +197 | Hoke County (Unincorporated Areas).
| Approximately 0.4 mile upstream of Wilson Road | +223 |
LIttle River | At the Hoke/Cumberland County boundary | +178 | Hoke County (Unincorporated Areas).
| At the Hoke/Moore County boundary | +209 |
Little Rockfish Creek | At the Hoke/Cumberland boundary | +172 | Hoke County (Unincorporated Areas).
| Approximately 500 feet downstream of Plank Road | +182 |
Tributary 1 | At the confluence with Little Rockfish Creek | +180 | Hoke County (Unincorporated Areas).
| Approximately 0.2 mile upstream of Plank Road | +211 |
Long Swamp | Approximately 500 feet upstream of Bullard Road | +207 | Hoke County (Unincorporated Areas).
| Approximately 0.5 mile upstream of Wilson Road | +225 |
Lumber River | At the downstream county boundary | +205 | Hoke County (Unincorporated Areas).
| At the upstream county boundary | +268 |
Lumber River Tributary | At the confluence with the Lumber River | +259 | Hoke County (Unincorporated Areas).
| Approximately 0.6 mile upstream of Ashemont Road | +360 |
McNeills Mill Creek | At the confluence with Big Marsh Swamp | +195 | Hoke County (Unincorporated Areas).
| Approximately 1,100 feet upstream of Pate Road | +226 |
Mill Creek (into Deep Creek) | At the confluence with Deep Creek | +199 | Hoke County (Unincorporated Areas).
| Approximately 1.4 miles upstream of the confluence with Deep Creek | +240 |
Mill Creek (into Rockfish Creek) | Approximately 200 feet upstream of the confluence with Rockfish Creek | +203 | Hoke County (Unincorporated Areas).
| Approximately 2.1 miles upstream of the confluence with Rockfish Creek | +249 |
Mill Creek Tributary (into Rockfish Creek) | At the confluence with Mill Creek (into Rockfish Creek) | +248 | Hoke County (Unincorporated Areas).
| Approximately 0.1 mile upstream of the confluence of Mill Creek (into Rockfish Creek) | +260 |
Mill Creek Tributary (Hoke) | At the confluence with Mill Creek (Hoke) | +166 | Hoke County (Unincorporated Areas).
| Approximately 0.7 mile upstream of the confluence with Mill Creek (Hoke) | +190 |
Mill Creek (Hoke) | Approximately 900 feet upstream of the confluence of Rockfish Creek | +131 | Hoke County (Unincorporated Areas).
| Approximately 0.8 mile upstream of Chason Road | +178
Mountain Creek | At the confluence with the Lumber River | +247 | Hoke County (Unincorporated Areas).
| Approximately 0.6 mile upstream of Army Road | +329
Mountain Creek Tributary | At the confluence with Mountain Creek | +280 | Hoke County (Unincorporated Areas).
| Approximately 0.7 mile upstream of the confluence with Mountain Creek | +300
Nicholsons Creek | Approximately 1,750 feet upstream of the confluence with Rockfish Creek | +189 | Hoke County (Unincorporated Areas).
| Approximately 4.0 miles upstream of the confluence with Mott Lake | +310
Pedler Branch | Approximately 2,200 feet upstream of the confluence with Rockfish Creek | +178 | Hoke County (Unincorporated Areas), City of Raeford.
| At South Main Street | +226
Pedler Branch Tributary | At the confluence with Pedler Branch | +215 | Hoke County (Unincorporated Areas), City of Raeford.
| Approximately 350 feet upstream of the railroad | +228
Quewhiffle Creek | At the confluence with the Lumber River | +255 | Hoke County (Unincorporated Areas).
| Approximately 1.2 miles upstream of Calloway Road | +347
Tributary 1 | At the confluence with Quewhiffle Creek | +289 | Hoke County (Unincorporated Areas).
| Approximately 40 feet downstream of Strother Road | +328
Tributary 2 | At the confluence with Quewhiffle Creek | +289 | Hoke County (Unincorporated Areas).
| At the county boundary | +313
Tributary to Quewhiffle Creek Tributary 1 | At the confluence with Quewhiffle Creek Tributary 1 | +297 | Hoke County (Unincorporated Areas).
| Approximately 0.8 mile upstream of Calloway Road | +353
Raft Swamp | At the county boundary | +182 | Hoke County (Unincorporated Areas).
| Approximately 100 feet downstream of Turnpike Road | +279
Tributary 1 | At the confluence with Raft Swamp | +205 | Hoke County (Unincorporated Areas).
| Approximately 375 feet downstream of Redsprings Road | +219
Tributary 2 | At the confluence with Raft Swamp | +253 | Hoke County (Unincorporated Areas).
| Approximately 0.4 mile upstream of the confluence with Raft Swamp | +265
Silver Run | At the confluence with James Creek | +283 | Hoke County (Unincorporated Areas).
| Approximately 2,100 feet from the confluence with Jones Creek | +293
Stewarts Creek | Approximately 700 feet upstream of the confluence with Rockfish Creek | +122 | Hoke County (Unincorporated Areas).
| Approximately 1.2 miles upstream of Lindsay Road | +241
Stewarts Creek Tributary | At the confluence with Stewarts Creek | +199 | Hoke County (Unincorporated Areas).
| Approximately 1.1 miles upstream of Lindsay Road | +235
Toneys Creek | At the confluence with Raft Swamp | +211 | Hoke County (Unincorporated Areas), City of Raeford.
| Approximately 800 feet downstream of Turnpike Road | +265
Tributary 1 | At the confluence with Toneys Creek | +215 | Hoke County (Unincorporated Areas), City of Raeford.
| Approximately 0.5 mile upstream of Laurinburg Road/U.S. 401 | +260
Tuckahoe Creek | At the confluence with James Creek | +233 | Hoke County (Unincorporated Areas).
| Approximately 0.3 mile upstream of the confluence of Tuckahoe Creek | +289
Tuckahoe Creek Tributary | At the confluence with Tuckahoe Creek | +277 | Hoke County (Unincorporated Areas).
| Approximately 0.5 mile upstream of the confluence with Tuckahoe Creek Tributary | +291
* National Geodetic Vertical Datum 1929.
+ North American Vertical Datum 1988.
# Depth in feet above ground.
ADDRESSES
Unincorporated Areas of Hoke County
Maps available for inspection at the Hoke County Permitting Office, 227 North Main Street, Raeford, North Carolina.
City of Raeford
Maps available for inspection at the Raeford City Hall, Planning Department, 315 North Main Street, Raeford, North Carolina.
Moore County, North Carolina and Unincorporated Areas
(FEMA Docket Nos. D-7540 and D-7626)
Aberdeen Creek | At the confluence with Drowning Creek | +273 | Moore County (Unincorporated Areas), Town of Southern Pines, Village of Pinehurst.
| Approximately 250 feet downstream of Williams Drive | +470
Tributary 1 | At Plantation Drive | +385 | Moore County (Unincorporated Areas), Town of Southern Pines.
| Approximately 0.7 mile upstream of Plantation Drive | +442
Tributary 2 | At the confluence with Aberdeen Creek | +386 | Village of Pinehurst.
| Approximately 0.6 mile upstream of the confluence | +426
Tributary 3 | At the confluence with Aberdeen Creek | +386 | Village of Pinehurst, Town of Southern Pines.
| Approximately 100 feet upstream of National Drive | +463 | Pinehurst, Town of Southern Pines.
Tributary 4 | At the confluence with Aberdeen Creek | +418 | Town of Southern Pines.
| Approximately 1,175 feet upstream of the confluence | +436
Bear Creek | At the confluence with Deep River | +320 | Moore County (Unincorporated Areas), Town of Robbins.
| Approximately 100 feet downstream of Adams Road | +461
Beaver Creek (into Crane Creek) | At the confluence with Crane Creek | +234 | Moore County (Unincorporated Areas).
| At the Moore/Lee County boundary | +307
Big Governors Creek | At the confluence with Deep Creek | +257 | Moore County (Unincorporated Areas).
| At the confluence with Big Governors Creek Tributary | +304
Big Governors Creek Tributary | At the confluence with Big Governors Creek | +304 | Moore County (Unincorporated Areas).
| Approximately 0.6 mile upstream of Torchwood Road | +326
Big Juniper Creek | At the confluence with McLendons Creek | +320 | Moore County (Unincorporated Areas).
| Approximately 1,200 feet upstream of Longleaf Lake Dam | +555
Board Branch | At the confluence with Joe's Fork | +368 | Moore County (Unincorporated Areas), Village of Pinehurst.
| Approximately 1,300 feet upstream of Yadkin Road (State Route 211) | +456
Buffalo Creek (Hoke) | At the confluence with Little River | +186 | Moore County (Unincorporated Areas).
| At the Moore/Harnett County boundary | +218
Buffalo Creek (Moore) | At the confluence with Deep River | +288 | Moore County (Unincorporated Areas).
| Approximately 3.8 miles upstream of State Highway 24 | +502
Buffalo Creek Tributary 1 | At the confluence with Buffalo Creek (Hoke) | +194 | Moore County (Unincorporated Areas).
| Approximately 1,400 feet upstream of Marks Road | +337
Cabin Creek | Approximately 200 feet upstream of the confluence with Bear Creek | +361 | Moore County (Unincorporated Areas), Town of Robbins.
| At the Moore/Montgomery County boundary | +487
Carrolls Branch | At the confluence with James Creek | +252 | Moore County (Unincorporated Areas), Town of Southern Pines.
| Approximately 4.3 miles upstream of Youngs Road | +365
Cotton Creek | At the confluence with Cabin Creek | +449 | Moore County (Unincorporated Areas).
| At the Moore/Montgomery County boundary | +482
Crane Creek | At the confluence with Little River | +194 | Moore County (Unincorporated Areas), Town of Carthage, Town of Vass.
| Approximately 500 feet upstream of State Highway 24 | +369 | Moore County (Unincorporated Areas), Town of Carthage, Town of Vass.
Crawley Creek | At the confluence with Big Governors Creek | +257 | Moore County (Unincorporated Areas).
| Approximately 800 feet upstream of Old River Road | +318
Tributary 1 | At the confluence with Crawley Creek | +289 | Moore County (Unincorporated Areas).
| Approximately 0.7 mile upstream of the confluence with Crawley Creek | +298
Tributary 2 | At the confluence with Crawley Creek | +289 | Moore County (Unincorporated Areas).
| Approximately 1.0 mile upstream of the confluence with Crawley Creek | +307
Cypress Creek | Just upstream of Loblolly Drive | +228 | Moore County (Unincorporated Areas).
| At the Moore/Harnett County boundary | +228
Deep Creek | At the confluence with Horse Creek | +302 | Moore County (Unincorporated Areas), Village of Foxfire.
| Approximately 1.0 mile upstream of the confluence with Sandy Run | +367
Deep River | At the Moore/Chatham County boundary | +250 | Moore County (Unincorporated Areas).
| At the Moore/Randolph County boundary | +352
Tributary 4 | At the confluence with Deep River | +265 | Moore County (Unincorporated Areas).
| Approximately 1.0 mile upstream of the confluence with Deep River | +267
Tributary 5 | At the confluence with Deep River | +265 | Moore County (Unincorporated Areas).
| Approximately 0.5 mile upstream of Rascob Road | +265
Drowning Creek | At Moore/Hoke County boundary | +268 | Moore County (Unincorporated Areas), Village of Foxfire.
| Approximately 400 feet downstream of Purdue Road | +672
Tributary 2 | At the confluence with Drowning Creek | +458 | Moore County (Unincorporated Areas)
| Approximately 1.4 miles upstream of Martin Road | +545
Dry Creek | At the confluence with Cabin Creek | +369 | Moore County (Unincorporated Areas).
| Approximately 5.1 miles upstream of State Highway 24 | +533
Dunham Creek | At the confluence with Crane Creek | +327 | Moore County (Unincorporated Areas).
| Approximately 0.9 mile upstream of Farm Life School Road | +354
Glade Branch | At the confluence with McLendons Creek | +263 | Moore County (Unincorporated Areas).
| Approximately 0.8 mile upstream of Kelly Plantation Road | +274
Grassy Creek | At the confluence with Deep River | +335 | Moore County (Unincorporated Areas).
| Approximately 400 feet upstream of L. Moore Road | +544
Hector Creek | Just upstream of the confluence with Little River | +178 | Moore County (Unincorporated Areas).
| At the Moore/Harnett/Cumberland County boundaries | +194
Herds Creek | At the confluence with Crane Creek | +278 | Moore County (Unincorporated Areas).
| Approximately 1.1 miles upstream of Red Hill Road | +357
Horse Creek | At the confluence with Drowning Creek | +284 | Moore County (Unincorporated Areas), Village of Pinehurst.
| Approximately 0.4 mile upstream of Linden Road | +374
Horse Creek (Moore) | At the confluence with Dry Creek | +393 | Moore County (Unincorporated Areas).
| Approximately 1.9 miles upstream of Alex Road | +474
Tributary 1 | At the confluence with Horse Creek | +319 | Moore County (Unincorporated Areas).
| Approximately 1.2 miles upstream of the confluence with Horse Creek | +431
Tributary 2 | At the confluence with Horse Creek | +342 | Moore County (Unincorporated Areas), Town of Aberdeen, Village of Pinehurst.
| Approximately 1.2 miles upstream of the confluence | +401
Tributary 4 | At the confluence with Horse Creek | +366 | Moore County (Unincorporated Areas), Village of Pinehurst.
| Approximately 1,300 feet upstream of Linden Road | +441
Jackson Creek | At the confluence with Drowning Creek | +369 | Moore County (Unincorporated Areas), Village of Foxfire.
| Approximately 1,975 feet upstream of Currie Mill Road | +437
Tributary 1 | At the confluence with Jackson Creek | +372 | Moore County (Unincorporated Areas), Village of Foxfire.
| Approximately 0.6 mile upstream of the confluence of Tributary to Jackson Creek Tributary 1 | +394
Tributary 3 | At the confluence with Jackson Creek | +415 | Moore County (Unincorporated Areas).
| Approximately 1.7 miles upstream of the confluence with Jackson Creek | +443
James Creek | At the confluence with Little River | +209 | Moore County (Unincorporated Areas), Town of Southern Pines.
| Approximately 0.4 mile upstream of Den Road | +526
Joes Fork | At the confluence of Nicks Creek | +343 | Moore County (Unincorporated Areas), Town of Taylortown, Village of Pinehurst.
| Just downstream of Stoneykirk Drive | +430
Juniper Branch | At the confluence with Nicks Creek | +324 | Town of Carthage, Town of Southern Pines.
| Approximately 1.2 miles upstream of Meyer Farm Road | +437
Juniper Branch Tributary | At the confluence with Juniper Branch | +344 | Moore County (Unincorporated Areas), Town of Southern Pines.
| Approximately 1.0 mile upstream of the confluence with Juniper Branch | +401
Lake Auman | Entire shoreline of Lake Auman within community | +525 | Moore County (Unincorporated Areas).
Lick Creek | At the confluence with Scotchman Creek | +286 | Moore County (Unincorporated Areas).
| Approximately 1.0 mile upstream of Putnam Church Road | +356
Line Creek | At the confluence with Deep River | +250 | Moore County (Unincorporated Areas).
| Approximately 0.5 mile upstream of Alston House Road | +250
Little Crane Creek | At the confluence with Little Crane Creek | +259 | Moore County (Unincorporated Areas), Town of Cameron.
| At the Moore/Lee County boundary | +317
Little Crane Creek Tributary | At the confluence with Little Crane Creek | +304 | Moore County (Unincorporated Areas), Town of Cameron.
| At the Moore/Lee County boundary | +317
Little Creek (into Crane Creek) | Approximately 700 feet upstream of the confluence with Crane Creek | +206 | Moore County (Unincorporated Areas).
| Approximately 1,100 feet upstream of Summer Creek Trail | +275
Little Creek (Moore) | At the confluence with McLendons Creek | +280 | Moore County (Unincorporated Areas).
| Approximately 0.4 mile upstream of Old Glendon Road | +297
Little Creek Tributary | At the confluence with Little Creek | +233 | Moore County (Unincorporated Areas).
| Approximately 1.1 miles upstream of the confluence with Little Creek on to Crane Creek | +316
Little Governors Creek | At the confluence with Big Governors Creek | +257 | Moore County (Unincorporated Areas).
| Approximately 8.3 miles upstream of the confluence with Big Governors Creek | +360
Little River | At the confluence with Hector Creek | +178 | Moore County (Unincorporated Areas), Town of Vass.
| Approximately 1.1 miles upstream of Beulah Hill Church Road | +413
McCallum Branch | At the confluence with Aberdeen Creek | +340 | Moore County (Unincorporated Areas), Town of Aberdeen, Village of Pinehurst.
| Approximately 0.4 mile upstream of confluence | +340
McDeeds Creek | At the confluence with Mill Creek (into Little River) | +276 | Moore County (Unincorporated Areas), Town of Southern Pines.
| Approximately 100 feet upstream of West New Hampshire Avenue | +394
McIntosh Creek | At the confluence with Big Governors Creek | +265 | Moore County (Unincorporated Areas).
| Approximately 0.4 mile upstream of Old River Road | +376
McIntosh Creek Tributary | At the confluence with McIntosh Creek | +269 | Moore County (Unincorporated Areas).
| Approximately 0.8 mile upstream of the confluence with McIntosh Creek | +281
McLendons Creek | At the confluence with Deep River | +263 | Moore County (Unincorporated Areas).
| Approximately 1.6 miles upstream of the confluence with McLendons Creek Tributary 3 | +603
Tributary 1 | At the confluence with McLendons Creek | +274 | Moore County (Unincorporated Areas).
| Approximately 1.5 miles upstream of Old Glendon Road | +292
Tributary 2 | At the confluence with McLendons Creek | +399 | Moore County (Unincorporated Areas).
| Approximately 1.9 miles upstream of the confluence with McLendons Creek | +491
Tributary 3 | At the confluence with McLendons Creek | +453 | Moore County (Unincorporated Areas).
| Approximately 1.4 miles upstream of the confluence with McLendons Creek | +597
Meadow Creek | At the confluence with Buffalo Creek | +400 | Moore County (Unincorporated Areas).
| Approximately 1,400 feet upstream of State Highway 24/27 | +462
Mill Creek (into Cabin Creek) | At the confluence with Cabin Creek | +411 | Moore County (Unincorporated Areas).
| Approximately 700 feet upstream of the confluence with Mill Creek Tributary | +547
Mill Creek (into James Creek) | At the confluence with James Creek | +314 | Moore County (Unincorporated Areas), Town of Southern Pines.
| Approximately 1.5 miles upstream of the confluence with James Creek | +364
Mill Creek (into Little River) | At the confluence with Little River | +252 | Moore County (Unincorporated Areas), Towns of Vass and Southern Pines, Village of Whispering Pines.
| Approximately 0.4 mile upstream of State Highway 22 | +360
New Lake | At the confluence with McLendons Creek | +422 | Moore County (Unincorporated Areas).
| Approximately 1.4 miles upstream of Holly Grove School Road | +537
New Lake Tributary | At the confluence with New Lake | +434 | Moore County (Unincorporated Areas).
| Approximately 1.3 miles upstream of the confluence with New Lake | +565
Nicks Creek | Approximately 1,250 feet upstream of the confluence with Little River | +303 | Moore County (Unincorporated Areas), Town of Carthage, Town of Southern Pines, Village of Pinehurst, Village of Whispering Pines.
| Approximately 2.3 miles upstream of Beulah Hill Church Road | +420
Seven Lakes South | At the confluence with Big Juniper Creek | +451 | Moore County (Unincorporated Areas).
| Approximately 1,600 feet upstream of Cardinal Lane | +525
Simlin Creek | Just upstream of the confluence with Bear Creek | +360 | Moore County (Unincorporated Areas), Town of Robbins.
| Approximately 1.2 miles upstream of Trail Ridge Road | +375
Sings Creek | At the confluence with Wet Creek | +440 | Moore County (Unincorporated Areas).
| Approximately 0.4 mile upstream of Bensalem Church Road | +529
Suck Creek | At the confluence with McLendons Creek | +333 | Moore County (Unincorporated Areas).
| Approximately 100 feet upstream of Mount Carmel Road | +360
Toms Creek | At the confluence with Richland Creek | +263 | Moore County (Unincorporated Areas).
| Approximately 1.2 miles upstream of the confluence with Richland Creek | +289
Tributary to Drowning Creek Tributary 2 | At the confluence with Drowning Creek Tributary 2 | +470 | Moore County (Unincorporated Areas).
| Approximately 1,800 feet upstream of Eagle Branch Road | +516
Tributary to Jackson Creek Tributary 1 | At the confluence with Jackson Creek Tributary 1 | +380 | Moore County (Unincorporated Areas), Village of Foxfire.
| Approximately 1,750 feet downstream of Jackson Springs Road | +402
Tributary to McLendons Creek Tributary 1 | At the confluence with McLendons Creek Tributary 1 | +276 | Moore County (Unincorporated Areas).
| Approximately 0.4 mile upstream of Brady Road | +290
Tributary 2 | At the confluence with McLendons Creek Tributary 2 | +415 | Moore County (Unincorporated Areas).
| Approximately 0.9 mile upstream of the confluence with McLendons Creek Tributary 2 | +455
Tributary to Quewhiffle Creek Tributary 2 | At the confluence with Quewhiffle Creek Tributary 2 | +316 | Moore County (Unincorporated Areas).
| Approximately 0.4 mile upstream of confluence of Quewhiffle Creek Tributary 2 | +343
Turkey Creek | At the confluence with Little River | +184 | Moore County (Unincorporated Areas).
| Approximately 1.3 miles upstream of the confluence with Little River | +221
Tysons Creek | At the confluence with Deep River | +273 | Moore County (Unincorporated Areas).
| At the Moore/Chatham County boundary | +320
Wads Creek | Approximately 0.4 mile upstream of Little River Farm Boulevard | +325 | Moore County (Unincorporated Areas), Town of Carthage.
| Approximately 0.6 mile upstream of Murdocksville Road | +404
Wet Creek | At the confluence with Cabin Creek | +373 | Moore County (Unincorporated Areas).
| Approximately 0.4 mile upstream of Skill Road | +559
Wildcat Branch | At the confluence with Beaver Creek | +297 | Moore County (Unincorporated Areas).
| At the Moore/Chatham County boundary | +297
Williams Creek | At the confluence with Bear Creek | +419 | Moore County (Unincorporated Areas).
| Approximately 0.9 mile upstream of Willie Road | +474
Wolf Creek | At the confluence with Bear Creek | +386 | Moore County (Unincorporated Areas).
| At the Moore/Montgomery County boundary | +518
Lick Creek (into Deep River) | At the confluence with Deep River | +263 | Moore County (Unincorporated Areas).
| Approximately 300 feet upstream of Glendon-Carthage Road | +266
Mill Creek Tributary | At the confluence with Mill Creek (into Cabin Creek) | +547 | Moore County (Unincorporated Areas).
| Approximately 0.7 mile upstream of the confluence with Mill Creek (into Cabin Creek) | +576
* National Geodetic Vertical Datum 1929.
+ North American Vertical Datum 1988.
# Depth in feet above ground.
ADDRESSES
Town of Aberdeen
Maps available for inspection at the Aberdeen Planning Department, 115 North Poplar Street, Aberdeen, North Carolina.
Town of Cameron
Maps available for inspection at the Cameron Town Clerk's Office, 247 Carter Street, Cameron, North Carolina.
Town of Carthage
Maps available for inspection at the Carthage Town Clerk's Office, 4396 Highway 15-501, Carthage, North Carolina.
Village of Foxfire
Maps available for inspection at the Foxfire Village Zoning Department, 1 Town Hall Drive, Foxfire Village, North Carolina.
Unincorporated Areas of Moore County
Maps available for inspection at the Moore County Planning Office, 101A Monroe Street, Courthouse Square, Carthage, North Carolina.
Town of Pinebluff
Maps available for inspection at the Pinebluff Zoning Department, 325 East Baltimore Avenue, Pinebluff, North Carolina.
Village of Pinehurst
Maps available for inspection at the Village of Pinehurst Planning Office, 395 Magnolia Road, Pinehurst, North Carolina.
Town of Robbins
Maps available for inspection at the Robbins Town Hall, 101 North Middleton Street, Robbins, North Carolina.
Town of Southern Pines
Maps available for inspection at the Southern Pines Planning Department, 180 Southwest Broad Street, Southern Pines, North Carolina.
Town of Taylortown
Maps available for inspection at the Tarylortown Town Hall, 8350 Main Street, Taylortown, North Carolina.
Town of Vass
Maps available for inspection at the Vass Town Clerk's Office, 140 South Alma Street, Vass, North Carolina 28394.
Village of Whispering Pines
Maps available for inspection at the Whispering Pines Village Office, 10 Pine Ridge Drive, Whispering Pines, North Carolina.
NORTH CAROLINA
Sampson County
(FEMA Docket Nos. D-7660 and D-7636)
Bearskin Swamp | At the confluence with Little Coharie Creek | +87 | Sampson County (Unincorporated Areas).
| Approximately 1.3 miles upstream of Bearskin Road | +153
Beaverdam Creek | At the confluence with Clear Run | +57 | Sampson County (Unincorporated Areas).
| Approximately 2.4 miles upstream of the confluence with Clear Run | +97
Beaverdam Run | At the confluence with Great Coharie Creek | +99 | Sampson County (Unincorporated Areas).
| Approximately 0.6 mile upstream of High House Road | +168
Beaverdam Swamp | At the confluence with Mongo Swamp | +127 | Sampson County (Unincorporated Areas).
| Approximately 1.3 miles upstream of U.S. Highway 421 | +191
Beaverdam Swamp 1 | At the confluence with Six Runs Creek | +93 | Sampson County (Unincorporated Areas).
| Approximately 350 feet upstream of Isaac Weeks Road | +137
Beaverdam Swamp 2 | At the confluence with Great Coharie Creek | +106 | Sampson County (Unincorporated Areas).
| Approximately 260 feet downstream of Keener Road | +133
Tributary 1 | At the confluence with Beaverdam Swamp 2 | +119 | Sampson County (Unincorporated Areas).
| Approximately 0.4 mile upstream of Wiggins Road | +139
Beaverdam Swamp 3 | At the confluence with Great Coharie Creek | +134 | Sampson County (Unincorporated Areas), Town of Newton Grove.
| Approximately 1,000 feet upstream of the confluence of Beaverdam Swamp 3, Tributary 2 | +155
Tributary 2 | At the confluence with Beaverdam Swamp 3 | +154 | Town of Newton Grove.
| Approximately 800 feet upstream of Old Goldsboro Road | +162
Beaverdam Run Tributary 1 | At the confluence with Beaverdam Run | +121 | Sampson County (Unincorporated Areas).
| Approximately 160 feet downstream of High House Road | +135
Big Branch | At the confluence with Black River | +42 | Sampson County (Unincorporated Areas).
| Approximately 0.7 mile upstream of Harrells Highway (NC Highway 411) | +84
Big Juniper Run | At the confluence with Mingo Swamp | +151 | Sampson County (Unincorporated Areas).
| Approximately 1,200 feet upstream of Lee's Chapel Church Road | +192
Big Swamp | At the confluence with South River | +77 | Sampson County (Unincorporated Areas).
| Approximately 1.2 miles upstream of Minnie-Hall Road | +128
Bills Swamp | At the confluence with Little Coharie Creek | +58 | Sampson County (Unincorporated Areas).
| Approximately 1.4 miles upstream of Norris Road | +89
Black River | At the Bladen/Pender/Sampson County boundary | +23 | Sampson County (Unincorporated Areas).
| Approximately 3.6 miles upstream of the confluence of Big Branch | +45
Tributary 1 | At the confluence with Black River | +33 | Sampson County (Unincorporated Areas).
| Approximately 1,300 feet upstream of G. Shaw Road | +68
Buckhorn Creek | At the confluence with Crane Creek | +69 | Sampson County (Unincorporated Areas).
| Approximately 1.9 miles upstream of Boney Mill Road | +103
Bulltail Creek | At the Sampson/Duplin County boundary | +58 | Sampson County (Unincorporated Areas).
| Approximately 0.5 mile upstream of Bull Tail Road | +63
Caesar Swamp | At the confluence with Little Coharie Creek | +132 | Sampson County (Unincorporated Areas).
| Approximately 1.2 miles upstream of Straw Pond School Road | +180
Canty Mill Branch | At the confluence with Black River | +38 | Sampson County (Unincorporated Areas).
| Approximately 0.5 mile upstream of Melvin Road | +57
Cat Creek | At the confluence with Black River | +35 | Sampson County (Unincorporated Areas).
| Approximately 1,750 feet upstream of Private Road | +79
Cat Tail Branch | At the confluence with Williams Old Mill Branch | +122 | City of Clinton.
| Approximately 1,380 feet upstream of East Johnson Street | +138
Clear Run | Just upstream of Lundy Road | +46 | Sampson County (Unincorporated Areas).
| Approximately 1.5 miles upstream of the confluence of Beaverdam Creek | +70
Clifton Branch (formerly Kings Branch) | At the confluence with Six Runs Creek | +121 | Sampson County (Unincorporated Areas).
| Approximately 2.1 miles upstream of the confluence with Six Runs Creek | +137
Cobb Branch | At the confluence with Canty Mill Branch | +40 | Sampson County (Unincorporated Areas).
| Approximately 0.8 mile upstream of confluence with Canty Mill Branch | +48
Craddock Swamp | At the confluence with Ward Swamp | +141 | Sampson County (Unincorporated Areas).
| Approximately 275 feet downstream of William R. King Road | +167
Crane Creek | At the confluence with Six Runs Creek | +57 | Sampson County (Unincorporated Areas).
| Approximately 1.9 miles upstream of West Mount Gilead Church Road | +106
Cypress Lake | At the confluence with Black River | +27 | Sampson County (Unincorporated Areas).
| Approximately 1.2 miles upstream of Ivanhoe Road | +65
Devane Branch | At the confluence with Black River | +38 | Sampson County (Unincorporated Areas).
| Approximately 0.8 mile upstream of Tomahawk Highway (NC Highway 41) | +79
Doctors Creek | At the Sampson/Duplin County boundary | +87 | Sampson County (Unincorporated Areas).
| Approximately 250 feet upstream of the Sampson/Duplin County boundary | +88
Dollar Branch | Approximately 800 feet upstream of the confluence with Williams Old Mill Branch | +105 | Sampson County (Unincorporated Areas), City of Clinton.
| Approximately 1,060 feet upstream of W. Morisey Boulevard | +140
Encoh Mill Creek | At the confluence with South River | +31 | Sampson County (Unincorporated Areas).
| Approximately 1.4 miles upstream of Dam | +67
Gilmore Swamp | At the confluence with Six Runs Creek | +100 | Sampson County (Unincorporated Areas).
| Approximately 0.5 mile upstream of King Road | +142
Gilmore Swamp Tributary | At the confluence with Gilmore Swamp | +115 | Sampson County (Unincorporated Areas).
| Approximately 1.6 miles upstream of King Road | +136
Goshen Swamp | At the Sampson/Duplin County boundary | +117 | Sampson County (Unincorporated Areas).
| Approximately 228 feet upstream of Preacher Henrys Road | +167
Great Coharie Creek | Approximately 0.8 mile upstream of the confluence with Black River and Six Runs Creek | +52 | Sampson County (Unincorporated Areas).
| Approximately 1.0 mile upstream of Oak Grove Church Road | +182
Tributary 1 | At the confluence with Great Coharie Creek | +67 | Sampson County (Unincorporated Areas).
| Approximately 1.2 miles upstream of the confluence with Great Coharie Creek | +103
Tributary 2 | At the confluence with Great Coharie Creek | +67 | Sampson County (Unincorporated Areas).
| Approximately 1.3 miles upstream of the confluence with Great Coharie Creek | +101
Tributary 3 | At the confluence with Great Coharie Creek | +113 | Sampson County (Unincorporated Areas).
| Approximately 1.2 miles upstream of Keener Road | +148
Hoe Swamp | At the confluence with Six Runs Creek | +118 | Sampson County (Unincorporated Areas).
| Approximately 0.9 mile upstream of Hunter Road | +157
Hornet Swamp | At the confluence with Little Coharie Creek | +133 | Sampson County (Unincorporated Areas).
| Approximately 0.8 mile upstream of North Salemburg Highway | +170
Johnson Mill Branch | At the confluence with Little Coharie Creek | +68 | Sampson County (Unincorporated Areas).
| Approximately 1,240 feet upstream of Greens Bridge Road | +109
Jones Swamp | At the confluence with South River | +110 | Sampson County (Unincorporated Areas).
| Approximately 810 feet upstream of Welcome School Road | +138
Keith Branch | At the confluence with Black River | +34 | Sampson County (Unincorporated Areas)
| Approximately 1,430 feet upstream of Firetower Road | +48
Kill Swamp | At the confluence with Great Coharie Creek | +132 | Sampson County (Unincorporated Areas).
| Approximately 1.2 miles upstream of Emmet Thornoton Road | +176
Tributary 1 | At the confluence with Kill Swamp | +165 | Sampson County (Unincorporated Areas).
| Approximately 0.5 mile upstream of the confluence with Kill Swamp | +169
Little Beaverdam Swamp | At the confluence with South River | +120 | Sampson County (Unincorporated Areas).
| Approximately 1.0 mile upstream of Phillips Road | +155
Tributary 1 | At the confluence with Little Beaverdam Swamp | +123 | Sampson County (Unincorporated Areas).
| Approximately 1.3 mile upstream of the confluence with Little Beaverdam Swamp Tributary 2 | +138
Tributary 2 | At the confluence with Little Beaverdam Swamp Tributary 1 | +123 | Sampson County (Unincorporated Areas).
| Approximately 0.7 mile upstream of Charles Newland Road | +145
Little Coharie Creek | At the confluence with Great Coharie Creek | +58 | Sampson County (Unincorporated Areas).
| Approximately 1.1 miles upstream of Newton Grove Highway (U.S. Highway 13) | +192
Little Coharie Creek Tributary | At the confluence with Little Coharie Creek | +87 | Sampson County (Unincorporated Areas).
| Approximately 0.3 mile upstream of Andrews Chapel Road | +117
Little Juniper Run | At the confluence with Big Juniper Run | +172 | Sampson County (Unincorporated Areas).
| Approximately 0.6 mile upstream of Draughon Road | +214
Lockamy Mill | At the confluence with Little Coharie Creek | +73 | Sampson County (Unincorporated Areas).
| Approximately 0.9 mile upstream of State Route 411 | +103
Marsh Swamp | At the confluence with Great Coharie Creek | +112 | Sampson County (Unincorporated Areas).
| Approximately 1,020 feet upstream of Odom Road | +143
McPhail Branch | At the confluence with Merkle Swamp | +131 | Sampson County (Unincorporated Areas).
| Approximately 1.1 miles upstream of confluence with Merkle Swamp | +160
Meetinghouse Branch | At the confluence with Great Coharie Creek | +103 | Sampson County (Unincorporated Areas).
| Approximately 0.6 mile upstream of Basstown Road | +128
Merkle Swamp | At the confluence with Great Coharie Creek | +116 | Sampson County (Unincorporated Areas).
| Approximately 0.7 mile upstream of Joel Jones Lane | +155
Mill Creek | At the Sampson/Duplin County boundary | +51 | Sampson County (Unincorporated Areas).
| Approximately 800 feet upstream of Matthews Road | +66
Mill Creek 2 | At the confluence with Great Coharie Creek | +63 | Sampson County (Unincorporated Areas).
| Approximately 1.4 miles upstream of Garland Highway (Highway 701) | +110
Tributary 2 | At the confluence with Mill Creek | +61 | Sampson County (Unincorporated Areas).
| At the Sampson/Pender County boundary | +75
Mill Run | At the confluence with Six Runs Creek | +86 | Sampson County (Unincorporated Areas).
| Approximately 1.9 miles upstream of Rowan Road | +111
Mill Swamp | At the confluence with Six Runs Creek | +102 | Sampson County (Unincorporated Areas).
| Approximately 2.5 miles upstream of Lake Artesia Road | +123
Mill Swamp Tributary | At the confluence with Mill Swamp | +122 | Sampson County (Unincorporated Areas).
| Approximately 0.4 mile upstream of confluence with Mill Swamp | +125
Mingo Swamp | At the confluence with South River | +127 | Sampson County (Unincorporated Areas).
| At the Sampson/Harnett/Johnston County boundary confluence with Mill Swamp | +173
Old Mill Swamp | At the confluence with Great Coharie Creek | +113 | Sampson County (Unincorporated Areas).
| Approximately 1.0 mile upstream of Church Road | +152
Peters Creek | At the confluence with Buckhorn Branch | +70 | Sampson County (Unincorporated Areas).
| Approximately 0.8 mile upstream of confluence with Buckhorn Branch | +100
Pharisee Creek | At the Sampson/Duplin County boundary | +58 | Sampson County (Unincorporated Areas).
| Approximately 0.5 mile upstream of Wilmington Highway (U.S. Highway 421) | +67
Quewiffle Swamp | At the confluence with Six Runs Creek | +62 | Sampson County (Unincorporated Areas).
| Approximately 2.2 miles upstream of Trinity Church Road | +84
Railer Branch | At the confluence of Goshen Swamp | +135 | Sampson County (Unincorporated Areas).
| Approximately 0.5 mile upstream of Hollingsworth Road | +166
Rice Swamp | At the confluence with Little Coharie Creek | +99 | Sampson County (Unincorporated Areas), Town of Salemburg.
| Approximately 0.4 mile upstream of Zoar Church Road | +156
Robinson Mill Branch | At the confluence with Six Runs Creek | +56 | Sampson County (Unincorporated Areas).
| Approximately 1,100 feet upstream of Private Road | +114
Rocky Marsh Creek | At the confluence with Great Coharie Creek | +67 | Sampson County (Unincorporated Areas).
| Approximately 0.6 mile upstream of Peterson Road | +91
Rocky Marsh Creek Tributary | At the confluence with Rocky Marsh Creek | +78 | Sampson County (Unincorporated Areas).
| Approximately 1.2 miles upstream of the confluence with Rocky Marsh Creek | +138
Rowan Branch | At the confluence with Six Runs Creek | +82 | Sampson County (Unincorporated Areas).
| Approximately 1.3 miles upstream of Rowan Road | +140
Sevenmile Swamp | At the confluence with Great Coharie Creek | +128 | Sampson County (Unincorporated Areas).
| Approximately 0.9 mile upstream of Easy Street | +193
Shade Branch | At the confluence with Quewiffle Swamp | +80 | Sampson County (Unincorporated Areas).
| Approximately 1,900 feet upstream of Rogers Mill Road | +95
Six Runs Creek | At the confluence with Black River | +52 | Sampson County (Unincorporated Areas).
| Approximately 0.9 mile upstream of N. McCullen Road | +137
South River | At the confluence with Black River | +26 | Sampson County (Unincorporated Areas), Town of Autryville.
| At the confluence with Mingo Swamp | +127
South River Tributary 4 | At the confluence with South River | +127 | Sampson County (Unincorporated Areas).
| Approximately 650 feet upstream of the confluence with South River | +127
Spearmans Mill Creek | At the confluence with Six Runs Creek | +53 | Sampson County (Unincorporated Areas).
| Approximately 0.6 mile upstream of Hayes Chapel Road | +88
Starlins Swamp | At the confluence with Beaverdam Swamp | +138 | Sampson County (Unincorporated Areas).
| Approximately 0.4 mile upstream of Staley Hall Road | +177
Stewarts Creek (near Carroll) | At the confluence with Six Runs Creek | +67 | Sampson County (Unincorporated Areas).
| At the Sampson/Duplin County boundary | +83
Stony Run | At the confluence with Mingo Swamp | +158 | Sampson County (Unincorporated Areas).
| Approximately 600 feet upstream of the confluence with Mingo Swamp | +160
Tarkill Branch | At the confluence with Six Runs Creek | +52 | Sampson County (Unincorporated Areas).
| Approximately 0.8 mile upstream of Edmond Matthis Road | +97
Tenmile Swamp | At the confluence with Six Runs Creek | +97 | Sampson County (Unincorporated Areas).
| Approximately 1.0 mile upstream of McGowan Road | +135
Tenmile Swamp Tributary | At the confluence with Tenmile Swamp | +107 | Sampson County (Unincorporated Areas).
| Approximately 320 feet upstream of Thompson Avenue | +127
Turkey Creek | At the confluence with Six Runs Creek | +90 | Sampson County (Unincorporated Areas), Town of Turkey.
| At the Sampson/Duplin County boundary | +117
Twomile Swamp | At the confluence with Caesar Swamp | +147 | Sampson County (Unincorporated Areas).
| Approximately 1.0 mile upstream of Bynum Road | +162
Ward Swamp | At the confluence with Great Coharie Creek | +124 | Sampson County (Unincorporated Areas).
| Approximately 1.3 miles upstream of the confluence with Craddock Swamp | +159
Tributary 1: | At the confluence with Ward Swamp | +129 | Sampson County (Unincorporated Areas).
| Approximately 0.8 mile upstream of Hobbton Highway (U.S. Highway 701) | +156
Tributary 2 | At the confluence with Ward Swamp Tributary 1 | +133 | Sampson County (Unincorporated Areas).
| Approximately 1.0 mile upstream of Share Cake Road | +158
Tributary 3 | At the confluence with Ward Swamp | +133 | Sampson County (Unincorporated Areas).
| Approximately 2.1 miles upstream of Hobbton Highway (U.S. Highway 701) | +159
Tributary 4 | At the confluence with Ward Swamp Tributary 3 | +138 | Sampson County (Unincorporated Areas).
| Approximately 0.8 mile upstream of the confluence with Ward Swamp Tributary 3 | +152
Williams Old Mill Branch | Approximately 600 feet upstream of U.S. 701 | +121 | Sampson County (Unincorporated Areas), City of Clinton.
| Approximately 400 feet upstream of Northeast Boulevard | +124
Williams Old Mill Branch Tributary | At the confluence with Williams Old Mill Branch | +121 | Sampson County (Unincorporated Areas), City of Clinton.
| Approximately 0.5 mile upstream of North Boulevard | +149
Williamson Swamp | At the confluence with Little Beaverdam Swamp | +129 | Sampson County (Unincorporated Areas).
| Approximately 340 feet upstream of Stanley Hall Road | +179
Wolf Pit Branch | At the confluence with Buckhorn Creek | +85 | Sampson County (Unincorporated Areas).
| Approximately 1,640 feet upstream of Ozzie Road | +120
Youngs Swamp | At the Sampson/Duplin County boundary | +117 | Sampson County (Unincorporated Areas).
| Approximately 1.9 miles upstream of Suttontown Road | +137
* National Geodetic Vertical Datum 1929.
+ North American Vertical Datum 1988.
# Depth in feet above ground.
ADDRESSES
City of Clinton
Maps available for inspection at Clinton City Hall, 227 Lisbon Street, Clinton, North Carolina.
Town of Autryville
Maps available for inspection at Autryville Town Hall, 215 South Gray Street, Autryville, North Carolina.
Town of Newton Grove
Maps available for inspection at Newton Grove Hall, 304 West Weeksdale Street, Newton Grove, North Carolina.
Town of Salemburg
Maps available for inspection at Salemburg Town Hall, 100 Methodist Drive, Salemburg, North Carolina.
Unincorporated Areas of Sampson County
Maps available for inspection at the Sampsons County Inspections Department, 383 County Complex Road, Clinton, North Carolina.
Town of Turkey
Maps available for inspection at Turkey Town Hall, 51 Market Street, Turkey, North Carolina.

Flooding source(s) | Location of referenced elevation | *Elevation in feet (NGVD). +Elevation in feet (NAVD). #Depth in feet above ground | Communities affected
Rutherford County, Tennessee and Incorporated Areas
(FEMA Docket No. B-7458)
Andrews Creek | Confluence with East Fork Stones River | +608 | Rutherford County (Unincorporated Areas).
| Approximately 50 feet upstream of Hollingsworth Road | +657
Armstrong Branch | Confluence with Puckett Creek | +630 | Rutherford County (Unincorporated Areas), City of Murfreesboro.
| Approximately 2,070 feet upstream of Yeargan Road | +648
Bear Branch | Confluence with East Fork Stones River | +538 | Rutherford County (Unincorporated Areas), City of Murfreesboro.
| Approximately 1,720 feet downstream of Compton Road | +538
Big Springs Creek | Confluence with Hurricane Creek | +723 | Rutherford County (Unincorporated Areas).
| Approximately 1,010 upstream of Jimmy C Newman Road | +775
Bradley Creek | Confluence with East Fork Stones River | +558 | Rutherford County (Unincorporated Areas).
| Approximately 5,280 feet upstream of King Road | +685
Bushman Creek | Confluence with East Fork Stones River | +545 | Rutherford County (Unincorporated Areas).
| Approximately 1,400 feet upstream of New Lascassas Road | +596
Cheatham Branch | Confluence with Harpeth River | +724 | Rutherford County (Unincorporated Areas), City of Eagleville.
| Approximately 3,420 feet upstream of South Main Street | +788
Christmas Creek | Approximately 1,400 feet upstream of the confluence with West Fork Stones River | +639 | Rutherford County (Unincorporated Areas).
| Approximately 930 feet upstream of Christiana Fosterville Road | +698
Concord Branch | Confluence with Harpeth River | +739 | Rutherford County (Unincorporated Areas).
| Approximately 1,200 feet upstream of Ditch Lane | +749
Cripple Creek | Confluence with East Fork Stones River | +579 | Rutherford County (Unincorporated Areas).
| Approximately 1,890 feet upstream of Big Springs Road | +874
Dry Branch | Confluence with Cripple Creek | +592 | Rutherford County (Unincorporated Areas).
| Approximately 1,350 feet upstream of John Bragg Highway | +652
Dry Creek | Confluence with Hurricane Creek | +712 | Rutherford County (Unincorporated Areas).
| Approximately 760 feet upstream of Cobb Road | +746
Dry Fork | Confluence with Bradley Creek | +603 | Rutherford County (Unincorporated Areas).
| Approximately 2.5 miles upstream of Givens Road | +695
Dry Fork Creek | Confluence with West Fork Stones River | +685 | Rutherford County (Unincorporated Areas).
| Approximately 4,640 feet upstream of Brothers Road | +854
East Fork Stones River | Approximately 2,900 feet downstream of State Route 840 | +506 | Rutherford County (Unincorporated Areas), City of Murfreesboro.
| Approximately 4,220 feet upstream of Goochie Ford Road | +620
Fall Creek | Approximately 1.4 miles downstream of Powells Chapel Road | +508 | Rutherford County (Unincorporated Areas).
| Approximately 1.7 miles upstream of Fall Parkway | +556
Finch Branch | Approximately 990 feet downstream of Jefferson Pike | +580 | City of Lavergne.
| Approximately 1,428 feet upstream of Greenwood Drive | +619
Harpeth River | Approximately 1,680 feet downstream of College Road | +706 | Rutherford County (Unincorporated Areas), City of Eagleville.
| Approximately 680 feet upstream of North Lane | +737
Henry Creek | Confluence with Short Creek | +681 | Rutherford County (Unincorporated Areas).
| Approximately 2,980 feet upstream of Sims Road | +750
Hurricane Creek | Confluence with Middle Forks Stones River | +655 | Rutherford County (Unincorporated Areas).
| Approximately 1.3 miles upstream of Cobb Road | +723
Kelly Creek | Confluence with Harpeth River | +726 | Rutherford County (Unincorporated Areas).
| Approximately 2,150 upstream of Floyd Road | +797
Long Creek | Approximately 4,910 feet upstream of confluence with Middle Fork Stones River | +636 | Rutherford County (Unincorporated Areas).
| Approximately 1.9 miles upstream of Jacobs Bend Road | +672
Lytle Creek | Approximately 1.3 miles upstream of Diton-Mankin Road | +657 | Rutherford County (Unincorporated Areas).
| Approximately 4,000 feet upstream of Cedar Grove Road | +722
McElroy Branch | Confluence with Cripple Creek | +629 | Rutherford County (Unincorporated Areas).
| Approximately 1,020 upstream of Murray Kittrell Road | +670
McKnight Branch | Confluence with East Fork Stones River | +606 | Rutherford County (Unincorporated Areas).
| Approximately 2.6 miles upstream of E. Trimble Road | +658
Middle Fork Stones River | Approximately 1.5 miles downstream of Epps Mill Road | +651 | Rutherford County (Unincorporated Areas).
| Approximately 4,730 upstream of Interstate 24 | +774
Murray Branch | Confluence with McElroy Branch | +653 | Rutherford County (Unincorporated Areas).
| Approximately 1.4 miles upstream of Floration Road | +710
Olive Branch | Approximately 2,950 feet upstream of Rocky Ford Road | +584 | Rutherford County (Unincorporated Areas).
| Approximately 2.6 miles upstream of Rocky Ford Road | +684
Overall Creek | Approximately 530 feet downstream of South Windrow Road | +634 | Rutherford County (Unincorporated Areas).
| Approximately 9,910 feet upstream of South Windrow Road | +703
Panther Creek | Approximately 1,400 feet upstream of the confluence with West Fork Stones River | +647 | Rutherford County (Unincorporated Areas).
| Approximately 2.9 miles upstream of Midland Road | +702
Puckett Creek | Just upstream of Old Salem Road | +627 | Rutherford County (Unincorporated Areas).
| Approximately 4,300 feet upstream of Old Salem Road | +636
Reed Creek | Confluence with Cripple Creek | +715 | Rutherford County (Unincorporated Areas).
| Approximately 1.8 miles upstream of Bradyville Pike | +892
Rocky Fork Creek | Approximately 2,400 feet upstream of Almaville Road | +559 | Rutherford County (Unincorporated Areas).
| Approximately 1,250 feet upstream of Laddie Lane | +649
Short Creek | Confluence with Long Creek | +672 | Rutherford County (Unincorporated Areas).
| Approximately 3,310 feet upstream of Millersburg Road | +840
Stewart Creek | Approximately 60 feet upstream of Almaville Road | +603 | Rutherford County (Unincorporated Areas).
| Approximately 940 feet upstream of Almaville Road | +605
Stinking Creek | Approximately 410 feet upstream of Hollandale Road | +506 | City of Lavergne.
| Approximately 1,220 feet upstream of Bill Stewart Blvd | +584
Unnamed Tributary 007 | Confluence with McKnight Branch | +624 | Rutherford County (Unincorporated Areas).
| Approximately 1.1 miles upstream of the confluence with McKnight Branch | +650
Unnamed Tributary 009 | Confluence with Wades Branch | +574 | Rutherford County (Unincorporated Areas).
| Approximately 570 feet upstream of Dunaway Chapel Road | +616
Unnamed Tributary 011 | Confluence with Unnamed Tributary 009 | +574 | Rutherford County (Unincorporated Areas).
| Approximately 1,720 upstream of Dunaway Chapel Road | +605
Unnamed Tributary 014 | Approximately 300 feet upstream of the confluence with Stewart Creek | +572 | Rutherford County (Unincorporated Areas).
| Approximately 4,210 feet upstream of State Route 96 | +658
Unnamed Tributary 018 | Confluence with Cripple Creek | +598 | Rutherford County (Unincorporated Areas).
| Approximately 3,540 feet upstream of Cranor Road | +605
Unnamed Tributary 026 | Approximately 700 feet upstream of the confluence with Stewart Creek | +560 | Rutherford County (Unincorporated Areas).
| Approximately 3,100 feet upstream of Almaville Road | +632
Unnamed Tributary 028 | Approximately 1,150 downstream of Almaville Road | +566 | Rutherford County (Unincorporated Areas).
| Approximately 1,850 feet upstream of Woodland Trail | +630
Unnamed Tributary 046 | Confluence with Harpeth River | +714 | Rutherford County (Unincorporated Areas).
| Approximately 970 feet upstream of N Highway 41A | +731
Unnamed Tributary 047 | Confluence with Harpeth River | +719 | Rutherford County (Unincorporated Areas).
| Approximately 5,510 feet upstream of Rocky Glade Road | +759
Unnamed Tributary 049 | Approximately 3,670 feet downstream of N Highway 41A | +706 | Rutherford County (Unincorporated Areas).
| Approximately 373 feet upstream of N Highway 41A | +724
Unnamed Tributary 051 | Confluence with Unnamed Tributary 052 | +689 | Rutherford County (Unincorporated Areas).
| Approximately 1,620 feet upstream of Manus Road | +703
Unnamed Tributary 052 | Confluence with Murray Branch | +686 | Rutherford County (Unincorporated Areas).
| Approximately 2,980 feet upstream of Manus Road | +723
Unnamed Tributary 055 | Confluence with Middle Fork Stones River | +670 | Rutherford County (Unincorporated Areas).
| Approximately 250 feet upstream of Broyles Road | +730
Unnamed Tributary 056 | Confluence with Unnamed Tributary 055 | +693 | Rutherford County (Unincorporated Areas).
| Approximately 2,500 feet upstream of Christiana Hoovers Gap Road | +716
Unnamed Tributary 057 | Confluence with Unnamed Tributary 055 | +702 | Rutherford County (Unincorporated Areas).
| Approximately 680 feet upstream of the confluence with Unnamed Tributary 057 | +704
Unnamed Tributary 058 | Confluence with Middle Fork Stones River | +691 | Rutherford County (Unincorporated Areas).
| Approximately 2,500 feet upstream of confluence with Middle Fork Stones River | +706
Unnamed Tributary 069 | Confluence with Harpeth River | +726 | Rutherford County (Unincorporated Areas).
| Approximately 5,400 feet upstream of Swamp Road | +734
Unnamed Tributary 081 | Confluence with Long Creek | +672 | Rutherford County (Unincorporated Areas).
| Approximately 930 feet upstream of Johnson Road | +678
Unnamed Tributary 092 | Confluence with Panther Creek | +680 | Rutherford County (Unincorporated Areas).
| Approximately 2,420 feet upstream of Panther Creek Road | +689
Unnamed Tributary 116 | Confluence with Hurricane Creek | +673 | Rutherford County (Unincorporated Areas).
| Approximately 4,310 feet upstream of Jacobs Road | +743
Unnamed Tributary 118 | Confluence with Hurricane Creek | +711 | Rutherford County (Unincorporated Areas).
| Approximately 3,350 feet upstream of confluence with Hurricane Creek | +730
Unnamed Tributary 119 | Confluence with Hurricane Creek | +722 | Rutherford County (Unincorporated Areas).
| Approximately 1,240 feet upstream of confluence with Hurricane Creek | +732
Unnamed Tributary 124 | Confluence with Murray Branch | +676 | Rutherford County (Unincorporated Areas).
| Approximately 4,000 feet upstream of confluence with Murray Branch | +708
Unnamed Tributary 126 | Confluence with Murray Branch | +709 | Rutherford County (Unincorporated Areas).
| Approximately 1,670 feet upstream of Gum Puckett Road | +751
Unnamed Tributary 133 | At the Rutherford/Cannon County Boundary | +614 | Rutherford County (Unincorporated Areas).
| Approximately 1,960 feet upstream of the Rutherford/Cannon County Boundary | +625
Unnamed Tributary 141 | Approximately 1,750 feet upstream of the confluence with Stewart Creek | +567 | Rutherford County (Unincorporated Areas).
| Approximately 2,130 feet upstream of E. North Creek Road | +594
Unnamed Tributary 143 | Approximately 800 feet downstream of Almaville Road | +571 | Rutherford County (Unincorporated Areas).
| Approximately 1 mile upstream of Almaville Road | +640
Unnamed Tributary 144 | Approximately 750 feet upstream of the confluence with Stewart Creek | +578 | Rutherford County (Unincorporated Areas).
| Approximately 2.4 miles upstream of Almaville Road | +713
Unnamed Tributary 150 | Confluence with Christmas Creek | +698 | Rutherford County (Unincorporated Areas).
| Approximately 610 feet upstream of confluence with Christmas Creek | +698
Unnamed Tributary 177 | Confluence with Harpeth River | +721 | Rutherford County (Unincorporated Areas).
| Approximately 2,970 feet upstream of confluence with Harpeth River | +733
Unnamed Tributary 179 | Confluence with Harpeth River | +722 | Rutherford County (Unincorporated Areas).
| Approximately 2,710 feet upstream of confluence with Harpeth River | +729
Unnamed Tributary 182 | Confluence with Finch Branch | +585 | City of Lavergne.
| Approximately 400 feet upstream of Akin Street | +610
Unnamed Tributary 183 | Approximately 490 feet upstream of confluence with Finch Branch | +544 | City of Lavergne.
| Approximately 1,790 feet upstream of Louisville and Nashville Railroad | +585
Unnamed Tributary 184 | Approximately 1,000 feet upstream of E Sam Ridley Parkway | +513 | Town of Smyrna.
| Approximately 3,700 feet upstream of E Sam Ridley Parkway | +524
Unnamed Tributary 185 | Confluence with Cheatham Branch | +778 | City of Eagleville.
| Approximately 450 feet upstream of Spring Street | +812
Unnamed Tributary to West Fork Stones River | Approximately 1,010 feet downstream of Kimbro Road | +626 | Rutherford County (Unincorporated Areas).
| Approximately 1,460 feet upstream of Kimbro Road | +632
Wades Branch | Confluence with East Fork Stones River | +527 | Rutherford County (Unincorporated Areas).
| Approximately 3.1 miles upstream of State Route 102 | +593
West Fork Stones River | Approximately 360 feet downstream of Walnut Grove Road | +675 | Rutherford County (Unincorporated Areas).
| Approximately 1.8 miles upstream of Midland Fosterville Road | +765
# Depth in feet above ground.
* National Geodetic Vertical Datum.
+ North American Vertical Datum.
ADDRESSES
City of Eagleville
Maps are available for inspection at P.O. Box 68, Eagleville, TN 37060.
Send comments to the Honorable Nolan Barham Sr., Mayor, City of Eagleville, P.O. Box 68, Eagleville, TN 37060.
City of Lavergne
Maps are available for inspection at 5093 Murfreesboro Road, La Vergne, TN 37068.
Send comments to the Honorable Sherry Green, Mayor, City of La Vergne, 5093 Murfreesboro Road, La Vergne, TN, 37086.
City of Murfreesboro
Maps are available for inspection at P.O. Box 1139, Murfreesboro, TN 37133.
Send comments to the Honorable Tommy Bragg, Mayor, City of Murfreesboro, P.O. Box 1139, Murfreesboro, TN 37133.
Town of Smyrna
Maps are available for inspection at 315 South Lowery Street, Smyrna, TN 37167.
Send comments to the Honorable Bobby Spivey, Mayor, Town of Smyrna, 315 South Lowery Street, Smyrna, TN 37167.
Unincorporated Areas of Rutherford County
Maps are available for inspection at 1 Public Square South, Murfreesboro, TN 37130.
Send comments to the Honorable Nancy Allen, Mayor, Rutherford County, 1 Public Square, Room 101, Murfreesboro, TN 37130.
Salt Lake County, Utah and Incorporated Areas
Docket B-7454
Big Cottonwood Creek | Approximately 140 feet upstream of confluence with Jordan River | +4,246 | Salt Lake County (Unincorporated Areas).
| Approximately 60 feet upstream of Holladay Cottonwood Road | +4,642
| Approximately 120 feet upstream of Wasatch Boulevard | +4,896
Little Cottonwood Creek | At confluence with Jordan Road | +4,252 | Salt Lake County (Unincorporated Areas).
| Just upstream of 2000 East Street | +4,593
| Approximately 600 feet upstream of Route 209 | +5,384
Little Willow Creek | At confluence with Willow Creek | +4,610 | City of Draper, City of Sandy.
| Approximately 1500 feet upstream of Hidden Brook Drive | +5,094
Midas Creek | At 11800 South Street | +4,562 | City of Herriman, City of Riverton, Salt Lake County (Unincorporated Areas).
| Approximately 430 feet upstream of 6000 West Street | +4,920
# Depth in feet above ground.
* National Geodetic Vertical Datum.
+ North American Vertical Datum.
ADDRESSES
Unincorporated Areas of Salt Lake County
Maps are available for inspection at the Public Works Department, Engineering, 451 South State Street, Suite N3100 Salt Lake City, UT 84190.
Send comments to Honorable Peter Corroon, Salt Lake County, 2001 South State Street, Suite N2100, Salt Lake City, UT 84190.
City of Draper
Maps are available for inspection at 12441 South 900 East, Draper, UT 84020.
Send comments to Honorable Darrell H. Smith, Mayor, City of Draper, 12441 South 900 East, Draper, UT 84020.
City of Herriman
Maps are available for inspection at 13011 South Pioneer Street, Herriman, UT 84065.
Send comments to Honorable J. Lynn Crane, Mayor, City of Herriman, 13011 South Pioneer Street, Herriman, UT 84065.
City of Riverton
Maps are available for inspection at 12765 South 1400 West, Riverton, UT 84065.
Send comments to Honorable R. Mont Evans, Mayor, City of Riverton, 12765 South 1400 West, Riverton, UT 84065.
City of Sandy City
Maps are available for inspection at 10000 Centennial Parkway, Sandy, UT 84070.
Send comments to Honorable Tom Dolan, Mayor, City of Sandy City, 10000 Centennial Parkway, Sandy, UT 84070.

(Catalog of Federal Domestic Assistance No. 83.100, “Flood Insurance.”)

Dated: October 4, 2006.
David I. Maurstad,
Director, Mitigation Division, Federal Emergency Management Agency, Department of Homeland Security.

[FR Doc. E6-17271 Filed 10-16-06; 8:45 am]

BILLING CODE 9110-12-P